DEPARTMENT OF TRANSPORTATION

Federal Aviation Administration

14 CFR Parts 11, 61, 63, 65, and 141

[Docket No. FAA-2023-0825; Amdt. Nos. 11-67, 61-155, 63-47, 65-65, and 141-25]

RIN 2120-AL25

Removal of Expiration Date on a Flight Instructor Certificate; Additional Qualification Requirements To Train Initial Flight Instructor Applicants; and Other Provisions

AGENCY: Federal Aviation Administration (FAA), Department of Transportation (DOT).

ACTION: Final rule.

SUMMARY: This action removes the expiration date on flight instructor certificates to align with other airman certificates. Additional amendments include updating renewal requirements to recent experience requirements, introducing a new method for establishing recent flight instructor experience, and allowing instructors with a lapse of no more than three months to reinstate privileges via an approved flight instructor refresher course instead of a practical test. This final rule also adds two new methods for flight instructors to qualify to train initial applicants. Finally, this final rule relocates and codifies the requirements for relief for U.S. military and civilian personnel who seek to renew their expired flight instructor certificate.

DATES: This final rule is effective December 1, 2024, except that amendatory instruction 10 is effective March 1, 2027.

ADDRESSES: For information on where to obtain copies of rulemaking documents and other information related to this final rule, see “How to Obtain Additional Information” in the SUPPLEMENTARY INFORMATION section of this document.

FOR FURTHER INFORMATION CONTACT: Allan G. Kash, Training and Certification Group, Flight Standards Service, Federal Aviation Administration, 800 Independence Avenue SW, Washington, DC 20591; telephone (202) 267-1100; email allan.g.kash@faa.gov.

SUPPLEMENTARY INFORMATION:

List of Abbreviations and Acronyms Frequently Used In This Document

AATD: Advanced Aviation Training Device

ATD: Aviation Training Device

BATD: Basic Aviation Training Device

FFS: Full Flight Simulator

FIEQTP: Flight Instructor Enhanced Qualification Training Program

FIRC: Flight Instructor Refresher Course

FSTD: Flight Simulation Training Device

FTD: Flight Training Device

NPRM: Notice of Proposed Rulemaking

WINGS: FAA's Pilot Proficiency Program

Table of Contents

I. Executive Summary

A. Purpose of the Regulatory Action

B. Changes Made in This Final Rule

C. Summary of the Costs and Benefits

II. Authority for This Rulemaking

III. Background

A. Statement of the Problem

B. Summary of the NPRM

C. General Overview of Comments

IV. Discussion of Comments and the Final Rule

A. Removal of Expiration Date on Flight Instructor Certificates (§ 61.19)

B. Changing the Flight Instructor Certificate Renewal Requirements to Flight Instructor Recent Experience Requirements (§ 61.197)

C. Recent Experience Based on Instructional Activity in an FAA-Sponsored Pilot Proficiency Program (§ 61.197(b)(2)(v))

D. Reinstatement of Flight Instructor Privileges by FIRC (§ 61.199)

E. Instructor Qualifications for Training Initial Flight Instructor Applicants (§ 61.195(h); § 141.11; Part 141, Appendix K)

F. Conforming Amendments (§§ 61.2, 61.56, 61.425, 61.427)

G. SFAR No. 100-2 Codification Under § 61.40 and Associated Amendments

H. Miscellaneous Comments

V. Severability

VI. Regulatory Notices and Analyses

A. Regulatory Evaluation

B. Regulatory Flexibility Act

C. International Trade Impact Assessment

D. Unfunded Mandates Assessment

E. Paperwork Reduction Act

F. International Compatibility

G. Environmental Analysis

VII. Executive Order Determinations

A. Executive Order 13132, Federalism

B. Executive Order 13175, Consultation and Coordination With Indian Tribal Governments

C. Executive Order 13211, Regulations That Significantly Affect Energy Supply, Distribution, or Use

D. Executive Order 13609, Promoting International Regulatory Cooperation

VIII. Additional Information

A. Electronic Access and Filing

B. Small Business Regulatory Enforcement Fairness Act

I. Executive Summary

A. Purpose of the Regulatory Action

This final rule amends part 61 of title 14 of the Code of Federal Regulations (14 CFR) by revising the expiration, renewal, and reinstatement requirements for flight instructor certificates and revising the qualifications for flight instructors training initial flight instructor applicants.

As explained in section III.A. of the preamble, the FAA will remove the expiration date on flight instructor certificates to align with other airmen certificates. The flight instructor certificate renewal requirements will become recent experience requirements, which flight instructors must establish at least once every 24 calendar months. The final rule also adds a new method for flight instructors to establish recent experience by serving as a flight instructor in an FAA-sponsored pilot proficiency program. Additionally, while the FAA is not removing any existing allowances to renew a flight instructor certificate, as is discussed in section III.A. of this preamble, this final rule amends the reinstatement requirements of § 61.199 by allowing flight instructors to reinstate their flight instructor privileges by taking an approved flight instructor refresher course (FIRC), provided their recent experience has not lapsed for more than three calendar months.

As discussed in section IV.E. of the preamble, this final rule also revises the qualifications for instructors seeking to train initial flight instructor applicants. Specifically, the FAA is updating the existing qualification method by adding two new options. The first new option is based on training and endorsing successful applicants for practical tests. The FAA is also introducing a second new option as a method of qualification by completion of a new training program designed to prepare flight instructors to train initial flight instructor applicants.

Finally, the FAA will relocate and codify Special Federal Aviation Regulation (SFAR) No. 100-2, Relief for U.S. Military and Civilian Personnel who are Assigned Outside the United States in Support of U.S. Armed Forces Operations, into parts 61, 63, and 65, respectively. The codification of SFAR No. 100-2 is further discussed in section IV.F. of this preamble.

B. Changes Made in This Final Rule

This final rule adopts the amendments largely as proposed. The FAA notes three revisions to the rule, as explained in section IV. of this preamble.

This final rule revises the recent experience requirements based on instructional activity in an FAA-sponsored pilot proficiency program to clarify that 15 activities, rather than 15 hours of flight training, are required under the pilot proficiency program.

Additionally, this final rule revises § 61.197(b)(2)(i) to clarify that the 80 percent passage rate is based on all practical test applicants endorsed by the recommending instructor in the preceding 24 calendar months.

The FAA has identified an unintended omission in the NPRM regarding a reference to flight instructor certificate expiration in § 61.51(h)(2)(ii). To correct this, the FAA will implement a two-phased amendment to this rule. The first phase will ensure that flight instructors who hold a flight instructor certificate with an expiration date and flight instructors who hold a flight instructor certificate without an expiration date will remain compliant with the requirements of § 61.51 when logging training time in pilot logbooks after the effective date of the final rule. The second phase will begin 27 months after the effective date of the final rule. This second amendment will remove references to the flight instructor certificate expiration date from § 61.51. The detailed discussion and rationale behind these changes are further discussed in section IV.G. of this preamble.

Finally, this final rule more precisely describes the timeframe that a person may exercise the relief set forth in new § 61.40, currently SFAR 100-2, as (1) while the person serves in an operation as set forth in § 61.40(b)(1), or (2) six calendar months after returning to the United States.

The FAA notes that there is no cost impact associated with any of the changes adopted in this final rule.

C. Summary of the Costs and Benefits

The FAA estimates this rule to result in $5.6 million, discounted over five years, in cost savings to FAA and industry, which includes removing the expiration date on the flight instructor certificate as well as allowing flight instructors whose recent experience has lapsed by no more than three calendar months to reinstate flight instructor privileges by taking a FIRC. These cost savings are driven primarily by the cost savings to industry of removing the expiration date on the flight instructor certificate.

II. Authority for This Rulemaking

The FAA's authority to issue rules on aviation safety is found in Title 49 of the United States Code (49 U.S.C.). Subtitle I, section 106, describes the authority of the FAA Administrator. Subtitle VII, Aviation Programs, describes in more detail the scope of the agency's authority.

The FAA is issuing this final rule under the authority described in 49 U.S.C. 106(f), which establishes the authority of the Administrator to promulgate regulations and rules; 49 U.S.C. 44701(a)(5), which requires the Administrator to promote safe flight of civil aircraft in air commerce by prescribing regulations and setting minimum standards for other practices, methods, and procedures necessary for safety in air commerce and national security; and 49 U.S.C. 44703(a), which requires the Administrator to prescribe regulations for the issuance of airman certificates when the Administrator finds, after investigation, that an individual is qualified for and physically able to perform the duties related to the position authorized by the certificate. This rulemaking is within the scope of that authority. Finally, the FAA has determined that this rule satisfies the requirements of section 820 of the FAA Reauthorization Act of 2024, which requires the FAA to promulgate this final rule within 18 months after the date of enactment of the Act, to at a minimum, update part 61, Code of Federal Regulations, to remove the expiration date on the flight instructor certificate, and replace the requirement that a flight instructor renews their flight instructor certificate with appropriate recent experience requirements.¹

¹ Section 820 of Public Law 118-63, 138 Stat. 1330 (49 U.S.C. 44939 note).

III. Background

A. Statement of the Problem

As discussed in the notice of proposed rulemaking (NPRM),² under § 61.19(d), a flight instructor certificate expires 24 calendar months from the month in which it was issued, renewed, or reinstated, as appropriate, except as provided in § 61.197(b).³ Therefore, the FAA currently issues physical flight instructor certificates every time a flight instructor renews or reinstates their flight instructor certificate, which is at least every 24 calendar months, resulting in a process that is burdensome, inefficient, and costly to the FAA. Specifically, this process requires the FAA to process, print, and mail new certificates to all flight instructor certificate holders. Further, most airman certificates under part 61 do not have expiration dates; rather, a person may exercise the privileges of an airman certificate only if that person meets the appropriate recent experience requirements of part 61 specific to the operation or activity.

² Removal of Expiration Date on a Flight Instructor Certificate; Additional Qualification Requirements to Train Initial Flight Instructor Applicants; and Other Provisions NPRM, 88 FR 32983 (May 23, 2023).

³ Section 61.197(b) prescribes requirements for determining the expiration month of a renewed flight instructor certificate.

Industry advocates have expressed support for removing the expiration date on a flight instructor certificate and amending the renewal and reinstatement requirements, asserting that an expiration date on a flight instructor certificate is overly burdensome, costly, and provides no safety benefits. As described in the NPRM, on September 14, 1999, and again on March 13, 2000, the Aircraft Owners and Pilots Association (AOPA) petitioned the FAA to remove the expiration date on a flight instructor certificate. AOPA expressed concern that many current and former flight instructors perceive the existing FAA regulatory requirement for certificate expiration and reinstatement as a significant disincentive to renewing an expired flight instructor certificate. AOPA's petition also asserted that flight instructor certificate expirations have substantially reduced the number of otherwise qualified and experienced part-time flight instructors.

In addition to AOPA's position on the flight instructor expiration, AOPA petitioned the FAA to consider adding a three-month grace period to allow flight instructors to reestablish recent experience by completing an FIRC within those three months. Under the current rules, flight instructors who do not renew their certificates before expiration must successfully complete a full practical test to reinstate their flight instructor certificate, a process that can be both expensive and time-consuming. AOPA asserted that a three-month grace period would directly benefit the public by encouraging many flight instructors with expired certificates to rejoin the instructional community and eliminating the need for over 9,700 salary hours of unnecessary administrative processing while not adversely affecting the quality of flight training or flight safety.

As discussed in the NPRM to this final rule, the FAA published an NPRM in 2007 after receipt of AOPA's petitions ⁴ that would have issued flight instructor certificates without an expiration date; however, the FAA decided to withdraw the proposal and implemented a simplified application process. However, this simplified application process did not sufficiently address the administrative burden on the FAA and flight instructors of renewing flight instructor certificates. Additionally, retaining the expiration dates on flight instructor certificates is inconsistent with most airman certificates issued under part 61, which do not have expiration dates. Furthermore, the reinstatement requirements continue to provide a disincentive for flight instructors to reinstate their flight instructor certificates shortly after expiration because the only option available to reinstate a flight instructor certificate is to pass a flight instructor practical test.

⁴ See 88 FR at 32985 for additional discussion on the 2007 rulemaking action.

The FAA also recognizes the need for more qualified instructors to train new flight instructor applicants. Currently, flight instructors are required to have a minimum of 24 calendar months of instructional experience before they are eligible to train new flight instructor applicants. The flight training industry is impacted by the supply of flight instructors necessary to support future growth in aviation.

Finally, in Special Federal Aviation Regulation (SFAR) No. 100-2, the FAA recognizes the unique circumstances of certain members of the armed forces deployed outside the United States who may be unable to renew their certificates due to military commitments. An SFAR is typically expected to be effective for a discrete period of time to address temporary circumstances. However, as evident from the history of SFAR No. 100-2, discussed at length in the NPRM,⁵ the FAA finds an ongoing need to retain this relief more permanently due to ongoing overseas military operations. Therefore, the FAA has determined that the content of SFAR No. 100-2 should be incorporated within part 61 in lieu of the SFAR.

⁵ 88 FR at 32992.

B. Summary of the NPRM

The FAA published an NPRM on May 23, 2023.⁶ The FAA proposed to remove the expiration date from flight instructor certificates, revise the renewal requirements for flight instructors, amend the flight instructor privileges to train initial flight instructor applicants, and incorporate the provisions of SFAR No. 100-2 within part 61. The initial comment period closed on June 22, 2023.

⁶ 88 FR at 32983.

Commenters were instructed to provide comments on or before June 22, 2023 (i.e., 30 days from the date of publication of the NPRM). However, during the original comment period, the FAA received a request to extend the comment period to provide additional time to the public to comment on the proposed rule.⁷ Specifically, the comment proposed several recommendations in lieu of the proposed rulemaking. One such recommendation urged the FAA to convene a working group and consult with the flight training industry and, at a minimum, an extension of the comment period until after AirVenture 2023.⁸ The FAA reopened the comment period for an additional thirty (30) days, from November 1, 2023, through December 1, 2023.⁹ This decision aligns with the guidance of Executive Order 13563,¹⁰ which advocates for a minimum 60-day comment period to ensure the public has a meaningful opportunity to comment. With this extension, the total comment period was 60 days.

⁷ comment from William Edwards, Docket No. FAA-2023-0825-0132.

⁸ The Experimental Aircraft Association's AirVenture Oshkosh Air Show was held from July 24 through July 30, 2023.

⁹ Removal of Expiration Date on a Flight Instructor Certificate; Additional Qualification Requirements to Train Initial Flight Instructor Applicants; and Other Provisions Extension of Comment Period, 88 FR 74908 (Nov. 1, 2023).

¹⁰ www.federalregister.gov/documents/2011/01/21/2011-1385/improving-regulation-and-regulatory-review.

C. General Overview of Comments

One hundred sixty commenters responded to this NPRM during the initial 30-day comment period. The FAA received nine additional comments during the reopened comment period.¹¹

¹¹ Three of the additional comments received were duplicates. Therefore, the total number of unique comments received was 166.

Nineteen comments were from organizations, and the remainder were from individuals. The organizations who commented included industry advocacy groups, flight training providers, and flight instructor refresher course (FIRC) providers. Commenters included Air Line Pilots Association, International (ALPA); Aircraft Owners and Pilots Association (AOPA); AceCFI FIRC, American Flyers; Aviation Seminars; Eastern Kentucky University; Embry-Riddle Aeronautical University; Experimental Aircraft Association (EAA); Gleim Publications, Inc.; King Schools, Inc.; Lake Superior Helicopters; LeTourneau University; Liberty University School of Aeronautics; National Association of Flight Instructors (NAFI); Soaring Safety Foundation (SSF); Society of Aviation Flight Educators (SAFE); University of North Dakota; Western Michigan University; and Wright Base Flight Training.

The FAA received 34 comments generally supporting the rule as proposed without recommending changes. Fifty-seven commenters opposed some portion of the proposed rule, although several of these commenters also supported portions of the proposed rule. Ninety commenters requested clarifications, changes, or additional provisions. A discussion of comments requesting specific clarifications, changes, or revisions to the NPRM and the FAA's responses to these requests is in section IV. of this preamble.

IV. Discussion of Comments and the Final Rule

A. Removal of Expiration Date on Flight Instructor Certificates (§ 61.19)

The NPRM proposed to remove the expiration date from flight instructor certificates, as most airman certificates issued under part 61 do not have expiration dates. Instead, a person could exercise the privileges of an airman certificate without an expiration date only if that person meets the appropriate recent experience requirements of part 61 specific to the operation or activity. Therefore, the FAA proposed to revise § 61.19(d) by creating two paragraphs under § 61.19(d). As proposed, § 61.19(d)(1) would remove the expiration date for flight instructor certificates issued on or after the final rule's effective date. Section 61.19(d)(2) would retain the current requirement and state that flight instructor certificates issued before the final rule's effective date would expire 24 calendar months from the month in which they were issued, renewed, or reinstated, as appropriate. Additionally, the FAA proposed to revise § 61.19(a)(2) to reflect that all certificates, not only pilot certificates, except those issued with an expiration date, are considered valid unless surrendered, suspended, or revoked. The FAA further proposed to revise § 61.19(d) to remove the reference to § 61.197(b) since the exception no longer applied due to amendments to § 61.197(b). While the FAA received many comments on these amendments, the FAA adopts the amendments as proposed. The subsequent discussion responds to comments received.

Many commenters supported the proposed removal of the expiration date from flight instructor certificates, citing consistency with other airman certificates, which do not have an expiration date. Supporters agreed that not printing and mailing new certificates every 24 calendar months would result in a cost savings to the FAA. However, six commenters opposed the proposal because they believed removing the expiration date would not provide enough relief in these areas.

One commenter supported the removal of the expiration date, provided that flight instructors are required to maintain instructional proficiency. The FAA acknowledges this requirement remains and notes that the proposed requirement to meet flight instructor recent experience in accordance with § 61.197 ensures instructional proficiency.

Three commenters contended that the only cost savings from removing the expiration date from flight instructor certificates is to the FAA in the production and mailing of new certificates.

As explained in Section III.A.1. of the NPRM preamble, the FAA's intent is to address industry requests to align the flight instructor certificate with other pilot certificates by removing the expiration date from the certificate. This final rule achieves this goal in addition to reducing the FAA's administrative burden and industry expense to reinstate flight instructor privileges. The economic impact analysis in section V.A. further details the cost savings to the FAA and industry.

Comments Concerning the Impact of the Expiration Date Removal on Flight Instructors

Five commenters opined that the expiration date removal does not reduce the administrative burden to instructors, who must still meet recent experience requirements that are akin to the previous renewal requirements. The FAA maintains that the previous flight instructor renewal requirements are retained as recent experience options to ensure the quality of flight training remains unaffected by the removal of the expiration date on the flight instructor certificate. The recent experience options provide instructors flexibility to select from several options to maintain recent experience according to their individual needs and circumstances. Further consideration of comments specific to the proposed recent experience requirements is discussed separately.

Three commenters noted that a failure to comply with recent experience requirements would require a flight instructor to reinstate their flight instructor privileges before providing flight instruction again, resulting in no practical change from a certificate with an expiration date.

The FAA acknowledges that flight instructors may not provide flight instruction if their recent experience has lapsed and must reinstate their flight instructor privileges before exercising those privileges. To mitigate the impact of these requirements, the FAA proposed an additional option that allows a flight instructor to reinstate their privileges by completing an FIRC within the first three calendar months following a lapse of recent experience, as opposed to completing a practical test. Further consideration of comments specific to the proposed reinstatement requirements is discussed separately.

Commenters also provided mixed assessments on the effect of removing the expiration date, with some supporting the proposal for its potential to encourage flight instructors to remain active or encourage new flight instructors to pursue certification due to the decreased burden. Others expressed concerns that it might drive longtime instructors to quit due to the challenges of meeting new recent experience requirements or adapting to changes introduced in this rulemaking. One other opposing commenter believed the recent experience requirements would present new burdens to maintaining privileges.

The FAA reiterates that all existing renewal options will remain available as recent experience options. Flight instructors may complete a recent experience option of their choice and then submit an Airman Certificate and/or Rating Application (FAA Form 8710-1 or 8710-11, as applicable) to validate and record their recent experience.

Comments Concerning Comparison to Other Professional Certification

Several commenters opposed the removal of the expiration date on a flight instructor's certificate, noting that expiration dates are common in other professional licenses and certifications and do not typically constitute a burden. Some commenters misunderstood the proposal, erroneously believing it would relax standards for flight instructors.

In response, the FAA acknowledges that while some flight instructors do not perceive the expiration date as burdensome, the decision to remove the expiration date came as a result of requests from several industry pilot organizations, including AOPA. The FAA reiterates that the removal of the expiration date does not relax the standards for flight instructors who must continue to complete recent experience requirements in lieu of the former renewal requirements, ensuring that only proficient flight instructors are qualified to provide flight instruction.

Comments Concerning the Verification of Flight Instructor Privileges

Numerous commenters made recommendations or highlighted concerns regarding the proposal's impact on the ability to verify a flight instructor certificate and recent experience validity. Four commenters, including AOPA and the National Association of Flight Instructors (NAFI), supported the proposal but recommended that the FAA should provide access to a public database to verify a flight instructor certificate and the instructor's recent experience. Another supporting commenter recommended that the FAA should notify instructors prior to the end of their recent experience period. The Soaring Safety Foundation (SSF) requested information on what flight instructor data the FAA will make public to identify flight instructors who could use their FIRC to renew their certificate.¹² They expressed concern that without an expiration date, FIRC providers will not be able to contact and remind instructors that their instructor privileges are about to expire.

¹² The SSF referred specifically to the FAA's Pilot Records Database (PRD) and sought information on how updates to the PRD will accommodate FIRC providers in continuing to notify flight instructors about relevant FIRCs. It is important to note that the PRD is managed by the FAA and is accessible only to Part 119 certificate holders and fractional ownerships, not the general public. For publicly accessible information on airman certificates, including pertinent flight instructor certificate expiration dates, one can refer to the FAA's Airmen Certification website at www.faa.gov/licenses_certificates/airmen_certification.

Several opposing commenters expressed similar concerns. Eleven commenters, including two national FIRC providers, expressed concern that removing the expiration date could lead to instructors forgetting when their recent experience period ends. Six other commenters were concerned that without an expiration date on the flight instructor certificate, it would be more difficult for clients, flight schools, and the flight instructor themselves to determine if a flight instructor's privileges are valid.

The FAA notes that a flight instructor can verify the status of their flight instructor certificate online at the FAA's online Airmen Certificate Information website or by contacting the FAA Airman Certification Branch. This publicly available database will continue to serve as a resource for flight instructors to confirm when their current recent experience will end, and it will allow the public to verify the status of a flight instructor's credentials.

Four commenters expressed concern that a flight instructor may inadvertently provide instruction after their privileges lapse if they lose track of the end date of their current recent experience. These commenters believe that this could result in potential liability or financial consequences to both the instructor and their students if invalid instruction is provided or received, respectively.

The FAA notes that the removal of the expiration date from flight instructor certificates does not increase the risk of this scenario. Even with an expiration date on the certificate, a flight instructor could inadvertently provide flight instruction after this date. The FAA considers flight instructors professionals capable of tracking and timely completing their recent experience requirements. An instructor's credentials can be verified using the publicly available Airmen Certificate Information website.

Comments Concerning the Effect on Flight Instructor Privileges

The Air Line Pilots Association, International (ALPA) supported the proposal yet expressed concerns that some flight instructors might not comprehend the ongoing requirement to maintain recent experience or face the need for reinstatement. Additionally, several commenters seemed to misinterpret the removal of the expiration date from flight instructor certificates as implying that flight instructors would no longer need to maintain proficiency or might not receive updated information. Other commenters seemed to believe the proposal would change the requirements to maintain flight instructor privileges and currency. One commenter seemed to believe the rule would automatically reinstate expired flight instructor certificates.

The FAA clarifies that the removal of the expiration date from flight instructor certificates does not alter flight instructor eligibility, aeronautical knowledge, or flight proficiency requirements. Initial flight instructor applicants will continue to be evaluated to the same standard as before the removal of the expiration date on the flight instructor certificate. As previously discussed, renewal requirements are retained as recent experience requirements to ensure flight instructors continue to maintain instructional knowledge and experience. The new requirements provide one additional option to meet recent experience, but no other new requirements to maintain flight instructor privileges were introduced as part of this rule. Finally, the FAA notes that the final rule will not automatically reinstate an expired flight instructor certificate. A flight instructor with an expired flight instructor certificate must meet one of the reinstatement requirements specified in § 61.199 to reinstate their privileges.

B. Changing the Flight Instructor Certificate Renewal Requirements to Flight Instructor Recent Experience Requirements (§ 61.197)

This final rule retains the current methods for flight instructor certificate renewal, as specified in § 61.197(a), but refers to them as flight instructor recent experience requirements. Instead of renewing their flight instructor certificate every 24 calendar months, a flight instructor will now need to establish recent experience at least once every 24 calendar months. This change ensures the quality of flight training is not adversely affected by retaining the existing standard despite the removal of the expiration date from the flight instructor certificate. This change also aligns the flight instructor certificate with the other airman certificates in part 61 that are based on recent experience. The FAA notes these changes do not impose new requirements on flight instructors, as they may continue to select from one of the five existing methods to satisfy the recent experience requirements. Additionally, the final rule adds another option to satisfy recent experience, which is further explained in the FAA-sponsored pilot proficiency program discussion of this preamble.

Section 61.197 will continue to require flight instructors to submit an Airman Certificate and/or Rating Application along with associated documentation to the FAA upon completing the recent experience requirements. The submission of FAA Form 8710-1 or 8710-11, as applicable, remains the only acceptable method for a flight instructor to submit their data to the FAA to identify, validate, and track the flight instructor's recent experience.

Retaining this process allows the FAA to continue tracking and recording the status of flight instructor certificates by capturing the events in which an applicant satisfies the recent experience requirements of § 61.197 as revised in this final rule. While the flight instructor will not be applying to renew a certificate, using FAA Forms 8710-1 and 8710-11 to collect data is necessary to maintain an accurate record of flight instructors who are eligible to exercise their privileges. This process also supports the FAA's ability to provide necessary data to governmental offices and industry upon request.

Seventy-two commenters responded to the proposed recent experience requirements, of which thirteen supported and twenty-nine opposed the proposal. Thirty commenters made suggestions or comments without clearly supporting or opposing this proposal.

Comments Concerning Extension of the Recent Experience Period

Four commenters recommended extending the 24-calendar month recent experience period for establishing recent experience to reduce the frequency with which flight instructors must meet these requirements. Comments ranged from extending it to 36-48 calendar months, with one comment recommending up to 5 years, and another suggesting that flight instructors who have held a flight instructor certificate for over 10 years should be exempt from recent experience requirements. A fifth commenter simply opposed the 24-calendar month recent experience period because that person believes it is an undue burden.

However, the FAA finds the 24-calendar month period appropriate, as the knowledge and skills pertinent to flight instruction can diminish over time. This duration ensures the time between recent experience events is suitable for a flight instructor to best retain these instructional abilities. Additionally, the FAA notes that the duration of the 24-calendar month period is consistent with other common pilot recent experience periods, including the § 61.56 flight review. The FAA declines to adopt the recommendations to extend the recent experience period and will retain the 24-calendar month period to ensure flight instructors remain proficient.

Comments Concerning Differences Between Flight Instructor Recent Experience and Pilot Recent Experience

Three commenters opposed the proposed changes because they believed the requirements do not align flight instructor requirements with those for other pilot certificates, particularly noting that the requirement to reinstate flight instructor privileges, if recent experience requirements are not met, is unique to flight instructor certificates. Because the consequences remain the same as the previous renewal requirements, these commenters contended that the proposed recent experience requirements provide no practical relief.

The FAA notes that a flight instructor certificate is different than a pilot certificate, and both certificates afford different privileges. The flight instructor certificate pertains to instructional ability rather than pilot skill. The instructional role of flight instructors requires specific, stringent measures to ensure safety and the quality of training provided. This is analyzed in greater detail in the discussion addressing comments regarding reinstatement requirements.

Three commenters recommended that both teaching and flying skills should be assessed as part of meeting recent experience requirements. Two of these commenters recommended that flight instructors undergo an evaluation similar to the flight review required by § 61.56 and receive an endorsement from the instructor who conducted the evaluation. One commenter asserted that this review should be limited to instructors who did not provide any flight instruction in the preceding 24 calendar months.

As noted earlier, the flight instructor certificate pertains to instructional ability rather than pilot skill. Furthermore, requiring all instructors to complete a ground and/or flight evaluation conducted by another flight instructor to meet recent experience would pose an unnecessary burden to instructors. The existing flight review requirement in § 61.56 ensures that a flight instructor must maintain necessary piloting skills to act as pilot in command during flight instruction.

Comments Concerning Determination of the Recent Experience Period

The SSF requested clarification on the use of the term “month” within the proposed § 61.197(a)(1) through (3), which defines the start of the 24-calendar month recent experience period. The FAA notes that “month” is intended to identify a specific calendar month as referenced in § 61.197(a), ensuring consistency with the method previously used in § 61.197(b) for determining the flight instructor's expiration month.

One commenter recommended that all recent experience activities should be accomplished within the three calendar months preceding the documenting of that recent experience in accordance with § 61.197(b). The FAA finds that this recommendation would be unsuitable for forms of recent experience under § 61.197, other than completion of a FIRC. For instance, the § 61.197(b)(2)(i) recent experience option of recommending five applicants for a practical test with an 80 percent pass rate on the applicants' first attempt considers all instructional activity in the preceding 24 calendar months to determine that instructor's pass rate. If this was limited to the three calendar months preceding the recent experience validation (i.e., submission of FAA Form 8710-1 or 8710-11 to a certifying official), it is likely very few instructors would qualify for this option. Furthermore, the FAA notes that even an FIRC may be started and taken over more than three calendar months as long as the flight instructor begins the course within their current recent experience period. Although § 61.197(b)(2)(iii) requires that the FIRC must be completed within the preceding three calendar months of recent experience validation, a flight instructor is not precluded from taking the course gradually over a prolonged period throughout their current 24-calendar month recent experience period.

One commenter recommended that the FAA develop a system to automatically notify a flight instructor that they are nearing the end of their 24-calendar month recent experience period, such as by sending an email. Recognizing the utility of such notifications, the FAA will make the end date of a flight instructor's recent experience period publicly available through the FAA's online “Airmen Inquiry Search Page” and by contacting the FAA Airman Certification Branch directly. This is similar to the information previously provided regarding flight instructor certificate expiration dates. The FAA will continue to use this method.

Additionally, the FAA notes that it does not currently have a system capable of all necessary functions to identify flight instructor certificate expiration dates or recent experience end dates and then send an email reminder or other appropriate notification to that airman. However, the FAA is considering developing an automated email notification system for flight instructors, like the commenter recommended, and will provide further information in the future.

Comments Concerning Recent Experience by Recommending Applicants for Practical Tests (§ 61.197(b)(2)(i))

One commenter opposed the § 61.197(b)(2)(i) recent experience option of recommending at least five applicants for a practical test within the preceding 24 calendar months, with at least 80 percent of those applicants passing the test on their first attempt. This commenter stated that experience does not guarantee competency and believed many flight instructors produce poor pilot applicants.

The FAA recognizes that while experience alone does not guarantee competency, the requirement to recommend a minimum of five applicants for a practical test with 80 percent passing on their first attempt is intended to provide a verifiable measurement of a flight instructor's performance. Under this requirement, flight instructors must have demonstrated success as evidenced by the applicants' pass rate on their first attempt. This provides additional assurance of the flight instructor's competency through the objective evaluation of the applicants by the FAA or designated examiner. Therefore, the FAA retains this recent experience option.

National FIRC provider Aviation Seminars asked several questions regarding recent experience based on instructional activity, in accordance with § 61.197(b)(2)(i). Specifically, they asked if this recent experience option would recognize instructors who conduct § 61.56 flight reviews or the instrument proficiency checks of § 61.57(d). They also asked how flight instructors maintaining recent experience using this option would remain up to date on new information. They additionally asked how a flight instructor's activity and pass rate are verified during recent experience validation. Finally, they asked if the FAA's Integrated Airman Certification and Rating Application (IACRA) system would automatically prevent a flight instructor who does not meet recent experience requirements from signing other pilots' FAA Form 8710-1 or 8710-11, as applicable, as a recommending instructor.

The FAA notes that flight reviews and instrument proficiency checks do not satisfy the recent experience option of § 61.197(b)(2)(i) because they do not provide the demonstrated record of success necessary to validate competency under this specific provision. This recent experience requirement measures a flight instructor's competency based on the number of practical test endorsements the recommending instructor has given during the preceding 24 calendar months and the resulting first-time pass rate. The FAA finds that when an instructor validates their recent experience using § 61.197(b)(2)(i), they would provide the certifying official the records that the flight instructor is required by § 61.189 to maintain. Additionally, FAA records track and record the flight instructor's recommendations and pass rate through data submitted on the applicable Airman Certificate and/or Rating Application, FAA Form 8710-1 or 8710-11.

Regarding the functionality of IACRA, if a flight instructor does not reestablish recent experience prior to the end of their recent experience period, IACRA will prevent their ability to process applications as the recommending instructor. However, a brief administrative period is allowed post-recent experience period to account for any possible delays in processing documentation to establish recent experience. This is identical to the IACRA system functionality previously used when a flight instructor's certificate expired.

Eighteen commenters, including national FIRC provider Gleim Publications, recommended expanding the types of instructional activities that qualify under the § 61.197(b)(2)(i) recent experience option. They proposed recognizing activities that do not necessarily result in an endorsement for a practical test. One commenter expressed concern that not recognizing this type of instructional activity could lead to a loss of experienced instructors who do not meet the requirements for this recent experience option.

The FAA acknowledges that many important instructional activities do not result in an endorsement for a practical test; however, these activities do not result in a demonstrated record of success to validate the flight instructor's competency. As a result, the FAA cannot adopt this recommendation.

Additionally, it is important for flight instructors to understand that the recent experience option based on instructional activity is just one of several options available. If an instructor does not meet the criteria to establish recent experience through their instructional activity, they may establish recent experience through one of five other options in § 61.197(b). Therefore, the FAA declines to expand this recent experience option to include activities that do not lead to a practical test endorsement.

Two commenters, including LeTourneau University, recommended changing the criteria to meet recent experience through instructional activity to provide additional tolerance for simple applicant errors and instructors whose performance has improved over time. One commenter recommended allowing the 80 percent pass rate criterion to be met if the applicants pass on their second attempt to prevent simple applicant errors from negatively impacting the instructor. Another commenter recommended evaluating the first-time pass rate based either on the performance of the five most recent applicants or all applicants in the preceding 24 calendar months the flight instructor recommended, whichever produces a more favorable pass rate. The commenter believed this would recognize instructors who improved their performance over the 24-month period.

The FAA acknowledges that simple errors can occur during a practical test which is not a direct consequence of the instructor's preparation of that applicant. However, the FAA notes that a failure on a practical test may be an indication of a flight instructor's insufficient preparation or ineffective instruction of the applicant. If 80 percent of a flight instructor's applicants needed only to pass a practical test on their second attempt, this would not ensure an acceptable level of instructional competency to meet recent experience requirements. Similarly, considering only the most favorable data over a 24-month period could obscure ongoing deficiencies in the instructor's competency. Therefore, the FAA finds it necessary to consider the instructor's performance over the preceding 24-calendar months to ensure that significant deficiencies are not overlooked. The FAA has also included a minor change in § 61.197(b)(2)(i) to clarifying that the 80 percent pass rate criterion applies to all applicants that the flight instructor endorsed for a practical test in the preceding 24 calendar months. As a result, the FAA will not adopt these recommendations.

One commenter, a chief flight instructor at a part 141 pilot school with examining authority, inquired whether flight instructors who instruct in an approved part 141 training course for which that pilot school holds examining authority would be allowed to count applicants who complete an end of course test towards meeting the § 61.197(b)(2)(i) instructional activity-based recent experience option.

An end-of-course test administered under part 141 by a school with examining authority is considered equivalent to a practical test for the purposes of meeting the § 61.197(b)(2)(i) recent experience requirement.¹³ Therefore, flight instructors who provide end-of-course training are engaged in activities that meet the criteria for recent experience, provided the instructor must personally provide an endorsement for the end-of-course test for each applicant. The instructor's records, maintained in accordance with § 61.189(b)(2), must document that the instructor met all criteria of § 61.197(b)(2)(i). The FAA suggests that the instructor also sign the applicant's Airman Certificate and/or Rating Application as the recommending instructor for each applicant the instructor recommends for an end-of-course test. The instructor's endorsement and recommendation would be additional to the separately required air agency recommendation on the application.

¹³ Legal Interpretation to Crowe-Palm Beach Helicopters (August 28, 2015). drs.faa.gov/browse/excelExternalWindow/FAA000000000LEGALINTPR2015017PDF.0001.

Two commenters expressed concern that the recent experience options of § 61.197(b)(2)(i), based on instructional activity, or § 61.197(b)(2)(ii), by serving in a position involving the regular evaluation of pilots, may not adequately ensure that flight instructors stay informed about the latest developments in teaching techniques necessary to remain proficient as a flight instructor.

The FAA notes that both options existed under previous renewal requirements and have a longstanding precedent of being an acceptable means to retain flight instructor privileges. As discussed, the instructional activity under the criteria of § 61.197(b)(2)(i) requires a demonstrated record of success that attests to the flight instructor's instructional competency. To achieve this high level of demonstrated success, an instructor would need to keep up to date on recent developments and techniques. After satisfactorily completing a recent experience requirement, a flight instructor must submit documentation of such in a form and manner acceptable to the Administrator, in accordance with § 61.197(b)(2). FAA policy expresses the form and manner that is acceptable to the Administrator. This policy ensures that a flight instructor has knowledge of current pilot training standards and FAA certification standards by requiring supporting documentation appropriate to the position. This policy is expressed in Advisory Circular (AC) 61-65 and FAA guidance directing the activities of aviation safety inspectors (ASI).¹⁴ By ensuring a flight instructor has knowledge of current pilot training standards and FAA certification standards, the FAA verifies they have remained up to date on recent developments in pilot certification. As a result, the FAA finds that these two recent experience options provide an equivalent level of safety and instructional skill compared to other recent experience options.

¹⁴ Currently, FAA Order 8900.1, Vol 5, Ch 2, Sec 11, paragraph 5-504B1, list the documentation that an applicant should provide to the certifying official to renew their flight instructor certificate under § 61.197(a)(2)(ii). This includes a company manual and a letter with a company letterhead from management office. The employment documentation should clearly show that the applicant is in a position involving the regular evaluation of pilots; the applicant has satisfactory knowledge of current FAA pilot training policies and standards; and the applicant has satisfactory knowledge of the FAA certification processes. Paragraph 5-504B1 concludes with examples of positions in which applicants may qualify for flight instructor certificate renewal under § 61.197(a)(2)(ii).

Comments Concerning Recent Experience by Serving in a Position Involving the Regular Evaluation of Pilots (§ 61.197(b)(2)(ii))

Several commenters, including NAFI, recommended that the FAA recognize additional positions qualifying for the § 61.197(b)(2)(ii) recent experience option. The positions recommended include designated pilot examiners (DPEs); part 142 training center instructors; qualification as a part 121, 125 or 135 pilot in command; positions within a training organization under part 121, 125, 129, 135, 141, or 142; or any flight instructor determined to be qualified by an FAA aviation safety inspector.

The phrase “in a position involving the regular evaluation of pilots” as specified in § 61.197(b)(2)(ii) and FAA policy,¹⁵ is intended to cover a variety of activities that directly involve the evaluation of pilot performance and not the routine instructional duties typically associated with a flight instructor. A flight instructor eligible under the § 61.197(b)(2)(ii) recent experience option should be employed in a position for the primary purpose of conducting evaluations of other pilots, such as company check pilots or instructors in part 121 or 135 operations.

¹⁵ Ibid.

The FAA further notes that several positions recommended by commenters are already recognized for establishing flight instructor recent experience, such as designated pilot examiner or a pilot in command of a multiple-pilot flightcrew under part 121, 125 or 135. These positions are identified in Advisory Circular 61-65, as amended, and the FAA intends to continue to accept these positions under the new requirements. Additionally, other positions involving the regular evaluation of pilots, such as chief flight instructors, may also utilize this recent experience option. Furthermore, the FAA requires that the instructor provides documentation to support their engagement in such roles, to verify they possess satisfactory knowledge of current FAA pilot training policies and standards and satisfactory knowledge of the FAA certification processes.¹⁶ Thus, the FAA has decided not to amend § 61.197(b)(2)(ii) in response to these recommendations.

¹⁶ Ibid.

One commenter recommended that the FAA include in the regulations the specific positions recognized as involving the regular evaluation of pilots, as per § 61.197(b)(2)(ii). The commenter also recommended that the FAA not require documentation validating a flight instructor's eligibility to establish recent experience on this basis.

In response, the FAA finds that specifying a list of eligible positions under § 61.197(b)(2)(ii) could restrict the flexibility needed to accommodate various and potentially new roles that involve regular pilot evaluation. This approach avoids the need for additional rulemaking to expand or modify the list as new roles emerge. Regardless, documentation of a flight instructor's position and their knowledge of FAA training and certification policies and processes remains essential to ensure the instructor is qualified and prepared to provide effective flight instruction.

One commenter recommended that the FAA establish and require a minimum amount of time that a flight instructor must hold a position involving the regular evaluation of pilots to establish recent experience based on holding that position in accordance with § 61.197(b)(2)(ii).

The positions that are accepted per § 61.197(b)(ii) are higher level roles with the primary purpose of evaluating other pilots, such as check pilots, chief flight instructors, flight instructors in a part 121 or part 135 operation, and designated pilot examiners. Additionally, the FAA finds the requirement to hold the position within the preceding 24 calendar months is consistent with the other recent experience options. For these reasons, the FAA will not adopt this recommendation.

Comments Concerning Recent Experience by Successfully Completing a FIRC (§ 61.197(b)(2)(iii))

AOPA requested clarification regarding the meaning of “within the preceding three calendar months” for satisfying recent experience requirements by completion of a FIRC in accordance with § 61.197(b)(2)(iii). AOPA expressed concern that the FAA intends instructors to complete a FIRC every three calendar months to maintain recent experience.

A flight instructor is required to complete a FIRC once within their 24-calendar month recent experience period, receive a graduation certificate within the three calendar months, and document this recent experience by submitting FAA Form 8710-1 or 8710-11, as appropriate, to a certifying official.

National FIRC provider Gleim Publications recommended maintaining the FIRC as a valid option for recent experience due to the value of training it provides in keeping instructors knowledgeable.

The FAA has long supported the completion of an approved FIRC as an option to meet the former renewal requirements and will continue to do so as a recent experience option under the new § 61.197(b)(2)(iii).

Two commenters expressed concern for the continued acceptance of completion of a FIRC to satisfy recent experience requirements. One commenter stated that FIRCs often test rote knowledge and trivia, rather than promoting or evaluating higher-order learning. This commenter also stated that the information provided in FIRCs is often outdated and doesn't address important issues or types of instruction beyond primary flight training. Furthermore, this commenter noted that a flight instructor who doesn't provide dual instruction or log any pilot-in-command time during a 24-month period can still renew a flight instructor certificate solely by completing a FIRC, a situation they believe contradicts the emphasis on currency as proposed in the NPRM to this final rule. The other commenter believed that a flight review is a more rigorous way to assess an instructor's presentation and airmanship skills and suggested that practical instructional and flying skills should be prioritized over logging hours in front of a computer screen.

The FAA finds that FIRCs keep flight instructors informed of the changing world of flight training and enhance aviation safety through continued up-to-date refresher training of the flight instructor cadre. Additionally, the recurrent training provided by a FIRC is essential because many attendees may not otherwise be aware of recent changes affecting pilot training. For these reasons, the FAA considers completion of an approved FIRC a valuable option to maintain flight instructor recent experience.

However, the FAA acknowledges the need to find a balance in response to comments received. While some commenters have suggested making FIRCs more demanding, others have proposed reducing the total hours required or restructuring the FIRC program. In considering these differing comments, the FAA notes it retains the ability to modify training course outline (TCO) guidance to achieve the appropriate training outcome. This approach allows for balancing the FIRC content to ensure it effectively meets the training needs of flight instructors.

Eight commenters, including SAFE and NAFI, recommended adopting a continuing education model for FIRCs. These commenters suggested this model would allow an instructor to complete refresher modules on an ongoing basis, rather than within the typically brief period in which a FIRC is completed. Several commenters also supported this belief that a continuing education model would allow the course to provide more relevant information.

The FAA notes that flight instructors can start an internet-based FIRC at any time during their recent experience period and progress through the course modules at their own pace, as long as they complete and receive the FIRC graduation certificate before they submit their recent experience documentation to a certifying official prior to the end of their recent experience period. It is important to note that although providers that present conventional in-person FIRCs typically conduct their courses in two days, internet-based FIRCs allow their attendees to complete course modules at their own pace. While all FIRCs allow instructors to complete their FIRC at any time during their current recent experience period, some online FIRCs may allow ongoing training throughout the attendee's current recent experience period. However, the following requirements still apply in all cases: (1) The attendee must complete the FIRC within the three calendar months preceding submitting their documentation. (2) To retain their current recent experience end date, the flight instructor attendee must complete the FIRC and submit their documentation within three calendar months preceding the last month of their current recent experience period. Flight instructors seeking to begin a FIRC to receive ongoing training during their recent experience period should contact the provider before enrollment to ensure that the provider's FIRC meets the instructor's individual training plan.

Furthermore, FIRCs currently provide regularly updated training using the most relevant information. For instance, the FAA expects FIRC providers to quickly update their presentation materials to reflect relevant changes in FAA regulations, policies, and safety-related publications, such as FAA Acs and handbooks, to stay completely up to date at all times. Moreover, a FIRC provider may update their course as needed provided they include all course content that the Administrator has determined necessary. AC 61-83, Nationally Scheduled, FAA-Approved, Industry-Conducted Flight Instructor Refresher Course, provides advisory guidance and recommendations for the preparation and approval of TCOs for FAA-approved, industry-conducted FIRCs, Furthermore, AC 61-83, paragraph 14.1, explains that the FAA approves all proposed substantive changes to the TCO before the provider presents them in a FIRC. These processes ensure that FIRCs provide timely content and more relevant training to course attendees. For these reasons, the FAA finds it unnecessary to restructure the FIRC program by adopting a continuing education model as recommended by these eight commenters.

One commenter suggested that the overall FIRC hour requirement should be reduced to 8 hours, in addition to adopting a continuing education model.

The FAA believes that reducing the minimum hours required for a FIRC presentation from 16 to 8 hours would not allow for the effective delivery of all required training content and attendees would receive less information during the course. As previously noted, two other commenters suggested even more rigorous standards for approved FIRCs. The FAA finds that the current policy requiring no fewer than 16 hours of ground and/or flight instruction maintains a sufficient standard for a flight instructor to remain updated and establish recent experience.

One commenter suggested that the completion of a FIRC at any time within a flight instructor's 24-calendar month recent experience period should retain the same end month of the instructor's current recent experience period and extend the recent experience period for an additional 24 calendar months.

This recommendation, if applied, could effectively result in nearly 48-months of continued recent experience before the flight instructor is required to reestablish recent experience again. However, the recent experience requirements are intended to ensure a flight instructor retains instructional knowledge and proficiency, which degrades over time. As a result, the FAA finds it necessary to limit the provision of § 61.197(a)(3) to ensure a flight instructor establishes recent experience without an excessively long interval between recent experience events.

Two commenters recommended that the FAA develop and directly administer FIRC rather than rely on approved FIRC providers to offer these courses.

The FAA considers a FIRC provider as a professional educator with skill in training the trainers. Although the FAA's responsibility for the presentation of FIRCs was transferred to certain qualified industry organizations, the FAA maintains oversight of the FIRC program to include specifying the course content and structural guidelines as provided in AC 61-83. Before a FIRC can serve as a basis for flight instructor recent experience, the FAA must approve the TCO and issue a letter of authorization. This process allows the FAA to ensure FIRC providers offer courses which meet FIRC TCO development, training, and testing standards. Notably, the FAA finds that the history of flight instructor renewals demonstrates that FAA-approved, industry-conducted FIRCs have been successful for more than four decades. Therefore, the FAA declines to adopt this recommendation and will continue to authorize FIRC providers to offer these courses.

Comments Concerning Recent Experience by Passing a U.S. Armed Forces Military Instructor Pilot or Pilot Examiner Proficiency Check (§ 61.197(b)(2)(iv))

Two commenters, including AOPA, recommended that the FAA amend the proposed § 61.197(a)(2)(iv), which allows a flight instructor to meet recent experience based on completion of a U.S. Armed Forces military instructor pilot or pilot examiner proficiency check, to include civilian contractor pilots engaged in military instruction.

The FAA clarifies that the term “military instructor,” as used in § 61.197(a)(2)(iv), encompasses both military and civilian flight instructors who provide flight training within the U.S. Armed Forces. If a civilian who acts as a military flight instructor (e.g., as a contractor) for the U.S. Armed Forces receives a military instructor pilot or pilot examiner proficiency check, they are indeed eligible to exercise this recent experience option. Flight instructors must present an official military record documenting that they passed such proficiency checks within the preceding 24 calendar months to be eligible for this recent experience option.

Comments Recommending Additional Recent Experience Options

Four commenters, including NAFI and SAFE, recommended that accreditation as a master flight instructor by NAFI or through SAFE's Master Instructor Continuing Education Program should count to establish recent experience under the final rule.

The FAA notes that regulations cannot show preference toward any specific industry group or organization by codifying their name or program into regulations. Nevertheless, any industry group or organization wishing such approval may submit a request to the FAA for consideration of its program as a qualifying means to satisfy members' flight instructor recent experience. The FAA would then review the request and documentation to ensure that their program meets the applicable requirement of § 61.197 and, if so, subsequently continues to meet authorization requirements during each reauthorization cycle.

However, master instructors accredited by these organizations may still qualify to establish recent experience under existing options, such as § 61.197(b)(2)(i) by recommending at least five applicants for a practical test for a certificate or rating with at least 80 percent passing on their first attempt. Alternatively, if they hold a higher-level position with the primary purpose of evaluating pilots, such as a designated pilot examiner or a check pilot under part 121 or 135, they may qualify under § 61.197(b)(2)(ii).

Several commenters recommended additional methods of recent experience. Two commenters suggested allowing the flight instructor enhanced qualification training program (FIEQTP) to satisfy recent experience requirements for flight instructors.

The FAA notes that although the FIEQTP is a comprehensive course designed to prepare a flight instructor to teach initial flight instructor applicants, its purpose is distinct from that of a FIRC. Unlike a FIRC, the FIEQTP does not expose flight instructors to the latest in-flight training techniques, the newest technologies, the latest operational safety procedures, or the latest regulatory and policy changes. By preparing flight instructors to teach initial flight instructor applicants, the FIEQTP serves a different purpose than the proposed recent experience options. Therefore, the FAA does not consider the FIEQTP appropriate for satisfying the recent experience requirements and, therefore, declines to adopt this recommendation.

One commenter suggested allowing the annual instructor currency training under part 142 to count toward the recent experience requirements.

Although a part 142 training center instructor must complete training every 12 calendar months in accordance with § 142.53, the specific training content required annually does not ensure the broad level of knowledge intended for recent experience. The FAA expects flight instructors to also have knowledge of part 61 pilot certification requirements and the associated Airman Certification Standards or Practical Test Standards. Thus, the FAA declines to adopt this recommendation.

One commenter recommended allowing aviation educators to develop a new “teaching proficiency” course that includes three hours of ground training and three hours of flight training to improve instructional abilities and qualify as recent experience.

The FAA welcomes industry initiatives that lead pilots to seek additional training and greater proficiency. However, this recommendation appears to overlap with the intent of approved FIRCs. Currently, FAA policy in AC 61-83, paragraph 10.10, allows for consideration of FIRCs with a flight component when coordinated with and approved by the FAA. The FAA will consider approval of FIRCs with a flight component on a case-by-case basis. As a result, the FAA will not adopt this recommendation.

One commenter recommended that a flight instructor who holds a current § 61.56 flight review and has endorsed another pilot for a certificate or rating, or conducted a § 61.56 flight review for another pilot, should be eligible to satisfy the recent experience requirement.

The FAA notes that a flight review refreshes pilot knowledge and skill, not instructional proficiency. Additionally, the recommendation to endorse only one pilot for a certificate or rating is significantly less than the five required to qualify for the proposed recent experience option based on instructional activity in § 61.197(b)(2)(i). Furthermore, conducting a flight review does not result in a demonstrated record of success validating the flight instructor's competency because it is not objectively evaluated by the FAA or an examiner. The FAA cannot adopt this recommendation since it does not ensure the flight instructor's proficiency nor produce a demonstrated record of success.

LeTourneau University recommended an option to establish recent experience for flight instructors who provide 100 hours of training within the preceding 12 months in training courses under part 61, 141, or 142. They believed this would recognize active flight instruction as a method of recent experience.

The FAA notes that the recent experience option of § 61.197(b)(2)(i) recognizes active flight instruction and requires a demonstrated record of success based on applicants recommended for practical tests and the resulting rate of applicants who pass on their first attempt. The suggested approach does not produce the same demonstrated success attesting to the instructor's competency. As a result, the FAA will not adopt the recommended amendment.

Comment Concerning Removal of Reference to Flight Instructor Certificate Expiration From § 61.51(h)(2)(ii)

In their comment, Western Michigan University identified an additional section in part 61 which would require amendment to accommodate the proposed removal of flight instructor certificate expiration dates. Currently, § 61.51(h)(2)(ii) requires that the training time a person receives must be logged in a logbook and must include “. . . the authorized instructor's signature, certificate number, and certificate expiration date.” The commenter requested amending this section to allow logbook training time descriptions endorsed by authorized flight instructors who hold a flight instructor certificate without an expiration date.

The FAA agrees with this commenter in that the identified section requires amendment to accommodate flight instructor certificates without expiration dates. As a result, § 61.51(h)(2)(ii) will be amended in two phases. In the first phase, the rule will be amended to require a logbook entry with a description of the training given that includes either the flight instructor's certificate expiration date or the flight instructor's recent experience end date, consistent with the requirements of § 61.197. The first phase will commence on the effective date of the final rule. In the second phase, 27 calendar months after the effective date of the final rule, § 61.51(h)(2)(ii) will be further amended to require a logbook entry with a description of the training given that includes only the flight instructor's recent experience end date with the authorized instructor's signature, and certificate number. This two-phased approach will ensure that flight instructors who hold a flight instructor certificate with an expiration date within the 27 calendar months after the effective date of the final rule will remain compliant with the requirements of § 61.51 until those flight instructors are required to meet the renewal requirements of this final rule. This 27-calendar month period after the effective date of the final rule will accommodate flight instructors who choose to renew their flight instructor certificate early, in accordance with current § 61.197(b)(2).¹⁷ This approach ensures a smooth transition and maintains compliance throughout the amendment process.

¹⁸ Current section 61.197(b)(2) allows flight instructors to renew their flight instructor certificate within the three calendar month preceding the expiration month of the current flight instructor certificate. Flight instructors exercising this option would receive a new flight certificate within an expiration date 24 calendar months from their previous month of expiration.

Comments Concerning the Requirement To Validate Recent Experience by Submitting FAA Form 8710-1 or 8710-11 to the Administrator

Several commenters, including AOPA and SSF, requested clarification regarding how recent experience will be documented under the proposed rule. Other commenters misunderstood who would review supporting documentation and validate an application to establish recent experience.

The process for validating and establishing recent experience under § 61.197(b)(2) mirrors the procedural steps previously required to renew a flight instructor certificate. Flight instructors are required to submit an Airman Certificate and/or Rating Application (FAA Form 8710-1 or 8710-11, as applicable) to the FAA along with associated documentation that shows the flight instructor satisfactorily completed one of the recent experience requirements. These forms are submitted through the IACRA or via a printed paper application and must be reviewed and validated by a certifying official. Certifying officials may include an FAA ASI or an FAA designee, such as an appropriately authorized designated pilot examiner or airman certification representative (ACR). Once the application and any supporting documentation is reviewed and approved, that certifying official signs the application and submits it to the Airman Certification Branch for review, final approval, and record retention. Submission of FAA Forms 8710-1 or 8710-11, as applicable, remains the exclusive form and manner acceptable to the Administrator to submit flight instructor data to identify, validate, and track the flight instructor's recent experience period.

One commenter asked how instructors will document recent experience. Specifically, the commenter asked whether recent experience would be documented in the flight instructor's personal records such as their pilot logbook or retention of a FIRC graduation certificate.

The FAA maintains that the use of FAA Forms 8710-1 and 8710-11 is necessary. These forms allow the FAA to track flight instructors who are eligible to exercise the privileges of their flight instructor certificates and allow the FAA to validate that flight instructors meet the recent experience requirements. This information will be accessible online via the Airmen Certificate Information website, enabling verification of recent experience by flight instructors, their clients, and other interested parties.

Two commenters, LeTourneau University and SSF, requested clarification on who will sign the Form 8710 validating recent experience. SSF also asked if another flight instructor would be considered qualified to approve the form, similar to a flight instructor signing an application for a student pilot certificate.

The FAA reiterates that certifying officials, such as an FAA ASI, DPE, or ACR, will continue to review and sign Form 8710-1 or 8710-11 to validate a flight instructor's recent experience. The FAA finds these personnel are properly trained and authorized to review a flight instructor's recent experience and sign Form 8710-1 or 8710-11. Unlike the role of flight instructors in verifying student pilot certificate applications, which primarily involves confirming identity and basic eligibility, validating recent experience for flight instructors requires a greater responsibility and procedural knowledge than reviewing an application for a student pilot certificate.

AOPA asked if flight instructors who use the FAA WINGS pilot proficiency program to establish recent experience in accordance with § 61.197(b)(2)(v) will need to submit FAA Form 8710-1 or 8710-11, as applicable, or whether WINGS would automate the process. Additionally, they asked if flight instructors would have to validate recent experience by submitting Form 8710-1 or 8710-11 after every qualifying activity.

The FAA notes that the WINGS pilot proficiency program will not automatically submit recent experience documentation for participating instructors. Instructors must submit FAA Form 8710-1 or 8710-11 to a certifying official upon satisfactorily completing all § 61.197(b)(2)(v) requirements including conducting at least 15 activities recognized under the FAA-sponsored pilot proficiency program to at least 5 pilots.

Three commenters opposed the requirement to submit an 8710-1 or 8710-11 to document recent experience in accordance with § 61.197(b)(2) because they believed a Notice of Disapproval could be issued to flight instructors who submitted an application to validate recent experience. These commenters expressed concerns about the perceived consequences of a flight instructor providing training after the time of application and before receiving the Notice of Disapproval.

In the NPRM for this rule, the FAA stated that if a flight instructor does not sufficiently show a recent experience requirement has been met, or does not meet the recent experience requirements, the FAA would deny the applicant's application and issue a Letter of Disapproval. The FAA determined that the NPRM did not clearly describe the actions FAA would take if an instructor does not validate recent experience requirements. Additionally, the FAA notes that it inadvertently used the term Letter of Disapproval but intended to state Notice of Disapproval.

To clarify this process, if a flight instructor chooses to meet recent experience requirements by completing a practical test in accordance with § 61.197(b)(1) and the evaluator determines the instructor did not meet the required standards for required task(s) for that test, the evaluator would issue FAA Form 8060-5, Notice of Disapproval, to that flight instructor. The flight instructor would then have 60 days to successfully pass the remainder of the practical test in accordance with § 61.43(f).

Furthermore, a flight instructor documenting recent experience for any option under § 61.197(b)(2) not involving a practical test would not receive a Notice of Disapproval. Instead, if the flight instructor did not meet one of the eligibility requirements, the certifying official would inform the flight instructor of the reasons they are ineligible and return the application to the instructor. The flight instructor could resubmit documentation once they fully meet eligibility for their chosen recent experience option of § 61.197(b)(2). This notification would occur at the time the flight instructor first submitted the application to the certifying official.

Finally, if the flight instructor did not meet their eligibility to reestablish recent experience but is still within their previous 24 calendar month recent experience period, they could continue to provide instruction until the end of the recent experience period. After correcting the eligibility issue and establishing their new recent experience period, the instructor could continue providing instruction throughout the new period.

Twenty-one commenters opposed the requirement to document recent experience by submitting an 8710-1 or 8710-11 application. These commenters included national FIRC providers King Schools and AceCFI, and one designated pilot examiner. These commenters believed that this requirement did not relieve the administrative burden to the instructor or the FAA as compared to the previous renewal requirements. Of these commenters, ten additionally opposed the requirement because they believed it is inconsistent with other forms of pilot recent experience. Six commenters recommended that recent experience should be documented solely in the flight instructor's logbook or by retaining their FIRC graduation certificate, as applicable, with no requirement to submit Form 8710-1 or 8710-11.

For the reasons previously stated, the FAA has determined that the requirement to submit Forms 8710-1 and 8710-11 must be retained. Requiring flight instructors to submit these forms allows for validation of recent experience and the data collected ensures the public can verify the instructor's privileges. Furthermore, many other sources, such as governmental offices and industry, frequently ask the FAA to provide this data.

One commenter recommended that FIRC providers interface directly with the FAA to transmit a flight instructor's graduation certificate, bypassing the requirement for that instructor to document recent experience by submitting an application.

The holder of a flight instructor certificate bears the responsibility to establish recent experience and submit documentation in accordance with § 61.197. To help reduce the burden of document submission to flight instructors, the FAA authorizes FIRCs to use an ACR to help process their recent experience documentation.¹⁸ ACRs previously performed this function for the renewal of flight instructor certificates and will continue to perform a comparable role in documenting recent experience under the new requirements. The FAA declines to adopt this recommendation.

¹⁸ The FAA requires documentation to be submitted in accordance with Section 61.197(b). The documentation must be submitted in a form and manner acceptable to the Administrator, which means Form 8710-1 or 8710-11. Therefore, any required documentation must be attached to either Form 8710-1 or 8710-11, as applicable.

One commenter recommended that the FAA Forms 8710-1 and 8710-11 Aviation Safety Inspector or Technician Report blocks should be repurposed to allow the certifying official to document any recent experience activity type and the date the activity was completed.

The FAA notes that other recent experience options would not have a single date of completion comparable to a FIRC, nor would such a date have a meaningful use for other options. Since only the completion of a FIRC would necessitate data entered in the FIRC-specific blocks, the FAA finds it unnecessary to modify Forms 8710-1 and 8710-11 based on this recommendation.

C. Recent Experience Based on Instructional Activity in an FAA-Sponsored Pilot Proficiency Program (§ 61.197(b)(2)(v))

The NPRM proposed to codify the use of the FAA's WINGS-Pilot Proficiency Program as an approved program that flight instructors can use to satisfy flight instructor certificate renewal requirements under § 61.197(b)(2)(v). Historically, the WINGS Program is accepted as a certificate renewal method for flight instructors under FAA policy, as outlined in FAA Order 8900.1, Volume 5, Chapter 2, Section 11, due to its familiarity and emphasis on the current flight training standards and procedures.¹⁹

¹⁹ drs.faa.gov/browse/excelExternalWindow/DRSDOCID173242699920230309222925.0001?modalOpened=true.

Rather than codifying the WINGS Program by name, the FAA will adopt language in § 61.197(b)(2)(v) that allows a flight instructor to satisfy recent experience by serving as a flight instructor in an FAA-sponsored pilot proficiency program, provided certain requirements are met. The phrase “FAA-sponsored pilot proficiency program” is intended to provide flexibility for the incorporation of comparable FAA-sponsored programs that may be developed in the future.

Ten commenters, including AOPA, the Experimental Aircraft Association (EAA), and SAFE, generally supported the proposed recent experience option. EAA stated that this change is long overdue. AOPA expressed support and suggested that a future pilot proficiency program or an extensive update to the WINGS program would improve the user experience and further benefit program participants.

As discussed in the NPRM, the FAA's intent is to formalize the use of an FAA-sponsored pilot proficiency program as a method to establish flight instructor recent experience. The FAA appreciates the AOPA's feedback on the WINGS user experience. There is currently an ongoing effort unrelated to this rulemaking to modernize the FAASTeam FAASafety.gov website thereby improving user experience.

In the NPRM, the FAA included a requirement for a flight instructor to provide at least 15 hours of flight training under the FAA-sponsored pilot proficiency program to at least five pilots. In response to comments, the FAA acknowledges an error in the initial proposal that mistakenly required “15 hours” of flight training instead of “15 activities.” The final rule will revise the proposed regulatory text in § 61.197(b)(2)(v)(C) from “Has given at least 15 hours of flight training under the FAA-sponsored pilot proficiency program” to “Has conducted at least 15 flight activities recognized under the FAA-sponsored pilot proficiency program, during which the flight instructor evaluated at least five different pilots and has made the necessary endorsements in the logbooks of each pilot for each activity.”

Three commenters, including Gleim Publications, recommended reducing or eliminating the requirement to evaluate 15 flight activities for at least five pilots. They noted that a flight instructor may complete more than one level of the WINGS Program with the same pilot. Two commenters stated that some instructors may not have a broad enough client base to provide training to five different pilots but nevertheless provide the same amount of flight training to fewer individual pilots.

The FAA maintains that providing the specified flight training to at least five different pilots has long been an established part of FAA policy and is consistent with the recent experience option of proposed § 61.197(b)(2)(i), which is based on successful instructional activity. This requirement ensures a flight instructor provides flight training to various individuals under the WINGS Program. By training and evaluating at least five different pilots, the flight instructor encounters different instructional experiences. Although a flight instructor may provide more than one WINGS flight activity to the same pilot, that instructor would not be exercising or improving their ability to diversify their teaching techniques. For this reason, the FAA finds it necessary to retain the requirement as proposed.

Two commenters discussed the use of the term “FAA-sponsored pilot proficiency program” within proposed § 61.197(b)(2)(v). These commenters questioned whether the FAA would recognize a flight instructor's participation in an industry organization's pilot proficiency program as qualifying toward this recent experience option. One commenter recommended that the FAA add language to the proposed regulation to allow acceptance of industry pilot proficiency programs. Another commenter asked if the FAA intends to acknowledge industry programs as “equivalent to the current WINGS system for purposes of establishing instructional currency.” ²⁰

²⁰ Comment from Bruce Williams, Docket No. FAA-2023-0825-0090.

While industry-sponsored pilot proficiency programs are valuable resources to pilots and instructors, the FAA does not intend to accept a flight instructor's participation in an industry program as satisfying this recent experience option. The FAA's involvement is a critical component of the WINGS Program and would be equally critical in any program that may be recognized under § 61.197(b)(2)(v) in the future. Therefore, the FAA will not expand this recent experience option to Include industry programs at this time.

One commenter opposed this recent experience option because they believed it may not be a viable option for most instructors. The commenter stated that both the requirement to provide 15 hours of instruction and the requirement for the instructor to complete a phase of the WINGS Program may be difficult for a flight instructor not associated with a flight school or without access to an aircraft. Another commenter opposed the proposal, believing the WINGS Program is overly complicated and ineffective and that it should not serve as a basis for flight instructor recent experience.

The FAA finds that the WINGS Program structure and requirements are a valid means of renewing a flight instructor certificate. Through this final rule, the FAA codifies and retains a flight instructor's WINGS Program participation as a recent experience option. It is important to note that flight instructors are not obligated to participate in the WINGS Program under this amendment. All other previous renewal options are retained as recent experience options allowing flight instructors to maintain their privileges without WINGS Program participation if they so choose.

Furthermore, changes to the WINGS Program are beyond the scope or intent of this rulemaking. The FAA, along with many commenters, finds the WINGS Program a valuable recent experience options for participating instructors. Accordingly, the FAA will retain this proposed option.

D. Reinstatement of Flight Instructor Privileges by FIRC (§ 61.199)

Currently, § 61.199 prescribes the requirements for those who wish to reinstate their expired flight instructor certificates. These include (1) satisfactory completion of a flight instructor certification practical test as per § 61.183 for one of the ratings on the expired flight instructor certificate, or (2) satisfactory completion of a flight instructor certification practical test for an additional rating.²¹ In addition, a military instructor pilot may reinstate an expired flight instructor certificate by meeting certain U.S. Armed Forces instructor pilot or pilot examiner qualifications.²²

²¹ § 61.199(a)(1) and (2).

²² § 61.199(a)(3). Specifically, the military instructor pilot must provide a record showing that, within the preceding 6 calendar months from the date of application for reinstatement, the person either (1) passed a U.S. Armed Forces instructor pilot or pilot examiner proficiency check or (2) completed a U.S. Armed Forces' instructor pilot or pilot examiner training course and received an additional aircraft rating qualification as a military instructor pilot or pilot examiner that is appropriate to the flight instructor rating sought.

This final rule revises the requirements for reinstating flight instructor privileges due to the removal of the expiration date from a flight instructor certificate. As discussed in the NPRM, this change necessitates revising the reinstatement requirements set forth by § 61.199, removing expiration terminology and replacing it with recent experience terminology as adopted in § 61.197. This final rule retains all former reinstatement options, now relocated in § 61.199(a)(2) and (3), for flight instructors seeking to reinstate their privileges when they have not reestablished recent experience prior to the last month of their flight instructor recent experience period.

Additionally, this final rule adds a new reinstatement option in § 61.199(a)(1). This option creates a three-calendar-month reinstatement period immediately after lapse of the flight instructor's recent experience period during which flight instructors can reinstate their privileges by completing an FAA-approved FIRC as opposed to completing a practical test.

Flight instructors are not authorized to exercise the privileges of their flight instructor certificate when their recent experience has lapsed. For example, if an instructor's 24-calendar month period ended on June 30, 2026, the flight instructor's recent experience would lapse on July 1, 2026. The flight instructor would have until September 30, 2026, to complete an FAA-approved FIRC and submit an application for reinstatement. They are not permitted to exercise the privileges of the flight instructor certificate during this lapsed period. Successful completion of the FIRC and timely submission of the reinstatement application by September 30, 2026, will result in the reinstatement of their privileges. If reinstatement is not achieved by this deadline, the instructor must then satisfy the requirements of § 61.199(a)(2) or (a)(3) based on their circumstances.

The FAA received 37 comments pertaining to reinstatement of flight instructor privileges. Fifteen commenters supported the proposal, including AOPA, EAA, Liberty University School of Aeronautics, SSF, and LeTourneau University. Ten commenters opposed this proposal, including national FIRC provider AceCFI. Twelve commenters, including NAFI, made further suggestions or comments without clear support for, or opposition to, the proposal.

Comments Concerning Reinstating Flight Instructor Privileges by FIRC Within Three Calendar Months or Less

Fifteen commenters, including AOPA, EAA, and SSF, supported the proposal to add a three-calendar-month reinstatement period. AOPA stated the proposal would save time and provide incentive to instructors holding recently-expired certificates or privileges that have lapsed to rejoin the flight instruction community. EAA emphasized that this relief would aid instructors whose certificates inadvertently lapse simply because there is no longer an expiration date to reference on the certificate.

Comments Concerning the Duration of Reinstating Flight Instructor Privileges by FIRC

Some commenters questioned the selection of a three-calendar-month period for the proposed option to reinstate flight instructor privileges by completing a FIRC as being arbitrary. Three of these commenters asserted that the FAA did not provide data supporting why this option should be limited to a three-month period. They also maintained that the FAA did not provide data showing that a flight instructor's knowledge and skills do in fact decline over time when unused. Many commenters recommended extensions to six-calendar-months, 24-calendar-months, or even allowing indefinite reinstatement via FIRC completion. Several of these commenters stated that an extended period would provide additional flexibility and further incentive for instructors to retain their privileges. Additionally, some commenters likened an indefinite option to reinstate by FIRC to the process of a long-inactive pilot becoming current through a flight review.²³ Three commenters suggested extending the option to reinstate by FIRC beyond three months when exercised in conjunction with an additional requirement to receive flight and/or ground training. For instance, one commenter recommended logging three hours of ground and flight training with another flight instructor to refresh instructional skills. Another commenter addressing this topic recommended changing the three-month period to a 12-month period when the flight instructor has provided instruction within the past 120 days and then require a practical test after 12 months of lapsed privileges. The third commenter recommended that, in lieu of reinstating privileges by completing a practical test, the flight instructor complete a FIRC at any time, and then complete suitable flight training with another qualified flight instructor and receive an endorsement.

²³ See 14 CFR 61.56.

The FAA does not agree with extending this proposed reinstatement option beyond three calendar months because doing so would compromise safety. Furthermore, the FAA notes that these commenters did not provide any supporting evidence to show that their recommendations would provide an equivalent level of safety without requiring a practical test conducted by an impartial examiner after three calendar months.

As discussed in the NPRM, AOPA initially recommended a three-month period to allow a flight instructor to reestablish recent experience by completing a FIRC. The FAA also considered this option after concluding that requiring a flight instructor to take a practical test shortly after their flight instructor certificate expires or recent experience ends imposes undue personal and financial burdens on that flight instructor. Thus, the FAA determined that there is a need for an alternative reinstatement option and proposed a three-calendar-month reinstatement period because flight instructor knowledge and skills do not necessarily degrade the day after their certificate expires or, as adopted by this final rule, their recent experience ends.

The FAA notes that skill degradation is a documented phenomenon that has long been a source of concern for many industries including the aviation industry. Industry concerns include serious safety issues that arise due to the degradation of skills that occur after a period of nonuse. Consequently, many leading industry organizations have conducted studies and published reports to understand and mitigate skill degradation for industry professionals to maintain proficiency. For example, the European Union Aviation Safety Agency's (EASA's) Safety Issue Report regarding skill and knowledge degradation during the COVID-19 pandemic explains that skill degradation poses serious challenges to pilots and flight instructors. In this report citing numerous references and studies, EASA states, “Despite the initial recovery over the summer of 2021, flying activities are still not taking place at the pace required to keep all aviation professionals current. While organizations are making the effort to ramp up their training activity, they have faced a multitude of challenges such as the closure of training centers, lack of simulators, and lack of available instructors and trainers whose instructional knowledge may have also eroded during this period. Furthermore, new or updated operational procedures have been developed to cope with the changes in operations. With the aforementioned training constraints, aviation professionals may not be effectively trained in the updated systems and procedures upon their return to work.” ²⁴

²⁴ See www.easa.europa.eu/community/system/files/2021-08/Safety%20Issue%20Report%20-%20%20Skills%20and%20Knowledge%20Degradation_REV2%20Clean_0.pdf.

The FAA chose a three-calendar-month period because it is a brief enough period to reinstate flight instructor privileges before any significant proficiency degradation occurs. This period aligns with other similar currency requirements within part 61 and reflects an established understanding that instructional skills, while durable, do require periodic confirmation through structured training or assessment to ensure safety standards are maintained. This approach applies a safety standard consistent with other three-month pilot and flight instructor currency periods that have proven effective over time.

Further, the three-calendar-month period to reinstate a flight instructor's privilege by FIRC intends to accommodate persons who have encountered unforeseen circumstances that may have prevented them from renewing their certificates before the expiration date. A three-calendar-month period is sufficient to address various situations that might prevent an instructor from meeting their recent experience requirements. The rationale behind this specific timeframe is to provide instructors with a reasonable window to resolve personal matters, emergencies, or minor oversights that may have led to the lapse of their recent experience. For this reason, the FAA maintains that extending the reinstatement period by completing a FIRC is not appropriate in cases of lapses Beyond three calendar months of meeting recent experience or certificate renewal requirements.

Comments Concerning Alternative Reinstatement Options

Five commenters recommended additional options to reinstate flight instructor privileges. Of these five, one commenter recommended that any § 61.197 recent experience option should qualify an instructor to reinstate privileges during the proposed three-calendar-month period following the lapse of flight instructor privileges. LeTourneau University recommended an option to reinstate by receiving one hour of ground training, one hour of flight training and an endorsement from another flight instructor during the proposed three-calendar-month period. Two commenters recommended additional reinstatement options without specifying that the options should be limited to the proposed three-calendar-month period. One of these two recommendations was to allow the FIEQTP course to be used as a basis for reinstatement. The other recommendation was to allow a pilot proficiency or competency check, such as those required for pilots operating under part 121 or 135, to qualify a flight instructor for reinstatement. Finally, one commenter recommended that check pilot observations under § 135.339(a)(2) should qualify as a method to reinstate flight instructor privileges, equating this with the military pilot examiner reinstatement process outlined in § 61.199(a)(3)(i).

Upon review, the FAA has decided to retain the reinstatement method of completing a practical test conducted by the FAA or a designated pilot examiner and using an FAA-approved FIRC within the first three calendar months after a lapse of recent experience. The FAA based this decision on the recognition that a FIRC is an FAA-approved recurrent training program. The FIRC updates flight instructors on significant developments and changes in general aviation flight training that occurred since the instructor's last recent experience period. Additionally, a FIRC provides flight instructors with the necessary refresher training that exposes flight instructors to the latest in-flight training techniques, the newest technologies, and the latest operational safety procedures. FIRCs also emphasize the development and improvement of the instructor skills necessary to effectively convey information to pilots-in-training and build a foundational culture of safety within them.

An approved FIRC is unique among the recent experience options in that it provides this refresher training, making it suitable for this relieving option. Instructors who choose one of the other recent experience options do not receive this training. Therefore, the FAA considers it necessary for an instructor who has experienced a brief lapse in recent experience of up to three calendar months to receive, at a minimum, the training provided by an approved FIRC. Consequently, in the final rule, the FAA has decided not to include other methods of recent experience to qualify a flight instructor certificate for reinstatement during the three-month period.

Furthermore, the FAA finds the additional reinstatement options recommended by commenters as unsuitable. Historically, a flight instructor has not held the authority to endorse another instructor for renewal or reinstatement. The authority to reinstate a flight instructor certificate is reserved for the FAA or its designees. Therefore, the FAA finds that the recommendation for a flight instructor to have the authority to evaluate and provide an endorsement to reinstate another flight instructor whose recent experience has lapsed would not be appropriate.

Similarly, the FAA finds that an FIEQTP would be unsuitable to reinstate a flight instructor certificate. The FIEQTP is designed to train relatively inexperienced flight instructors how to teach new flight instructors and is not designed to meet the needs of reinstatement. Further, a flight instructor with lapsed privileges would not be the appropriate audience for such a course, since it is intended for individuals who actively provide instruction and have held a flight instructor certificate for less than 24 calendar months.

The recommendation to allow pilot proficiency and competency checks completed under part 121, 135, or the proficiency check of § 61.58 would also be inappropriate to reinstate a flight instructor certificate. The FAA notes that these checks focus on piloting skills rather than instructional abilities, thus not adequately assessing a flight instructor's educational competencies. Similarly, the recommendation to allow check pilot observations to reinstate flight instructor privileges would be unsuitable. These observations conducted under parts 121 and 135 require assessment of the check pilot's abilities as an evaluator; however, they do not assess the check pilot's instructional knowledge and skills. Although the FAA has long recognized that passing a U.S. Armed Forces instructor pilot or pilot examiner proficiency check provides the necessary standards for reinstating a flight instructor's privilege, the FAA does not find observations conducted under parts 121 and 135, or the proficiency check of § 61.58, acceptable options to reinstate flight instructor privileges. Consequently, the FAA declines to adopt the recommendations for additional reinstatement options.

Comments Concerning General Opposition to Any Reinstatement Relief

Two commenters opposed the proposal because they believed instructors should be held to higher standards and the additional relief granted to reinstatement by FIRC is contrary to this standard. The FAA agrees that instructors should be held to a high standard and the FAA believes the proposed reinstatement option retains such a standard. The FAA finds that the limited relief offered by completing a FIRC, during the initial three-calendar-month period in which their privileges have lapsed, does not compromise the long-held standard for instructional proficiency. Instead, this new relief encourages experienced instructors to reinstate their privileges and remain active in flight instruction if circumstances prevent them from re-establishing their recent experience prior to the end of their recent experience period. As previously noted, the FAA has retained the requirement to complete a practical test to reinstate flight instructor privileges after the initial three-calendar-month period, due to the need to ensure that instructional knowledge and skills have not degraded over prolonged periods of inactivity.

Comments Concerning Opposition To Reinstatement by Practical Test

Five commenters opposed the requirement to reinstate a flight instructor's privileges or certificate by practical test after the three-calendar-month period to reinstate privileges by completing a FIRC. Of these commenters, two recommended replacing the flight instructor reinstatement practical test with a proficiency check, similar to the instrument proficiency check specified under § 61.57. Another opposing commenter stated that requiring a test to reinstate flight instructor privileges does not align with the other pilot recent experience requirements.

The fundamental role an instructor plays in training pilots directly impacts aviation safety. The effectiveness of the instruction provides the foundation of the knowledge and skill of the pilot receiving the training. For this reason, the FAA finds it necessary to require a practical test to reinstate flight instructor privileges after the three-calendar-month period allowing reinstatement by completing a FIRC. Although other forms of pilot recent experience do not require the equivalent of a reinstatement practical test for those who fail to maintain currency, it is the critical importance of the instructor role in aviation safety that necessitates a practical test in the case of an instructor who is more than three-calendar-months past the end of their last recent experience period.

Comments Concerning a Recommendation To Incorporate by Reference the Flight Instructor Airman Certification Standards for Reinstatement

One commenter recommended § 61.199(a)(2)(i) incorporate by reference the proposed Flight Instructor for Airplane Category Airman Certification Standards reinstatement requirements, which were published in an NPRM docket for a separate rule.²⁵ The FAA notes that the Airman Certification Standards or Practical Test Standards appropriate for the category rating sought would apply to a reinstatement practical test, regardless of reference to a specific document.

²⁵ Airman Certification Standards and Practical Test Standards for Airmen; Incorporation by Reference, Docket No. FAA-2022-1463.

Comments Concerning the Difference Between the Three Calendar Month Period for Reinstatement by FIRC to the Relief Provided by SFAR No. 100-2

One commenter opposed the proposal because they believed it does not align with SFAR No. 100-2, which provides relief to certain military service personnel that could extend comparable relief up to six months after returning from overseas deployment. The commenter questioned why these personnel receive additional relief as opposed to the three-calendar-month period to reinstate by FIRC.

The relief provided by SFAR No. 100-2 has existed since the FAA issued SFAR No. 96 on May 6, 2002.²⁶ Since then, the relief was expanded to include all personnel serving abroad in support of U.S. military operations.27 28 SFAR No. 100-2 is effective until further notice.²⁹ This relief continues to be necessary to avoid penalizing U.S. personnel who are unable to meet the regulatory time limits of their privileges because they served outside the United States in support of U.S. Armed Forces operations. Consequently, the FAA proposed to codify this relief in new § 61.40 without any substantive changes. This relief allows a flight instructor with an expired certificate, or whose recent experience has lapsed, to reestablish their flight instructor privileges when they satisfy the appropriate requirements.

²⁶ Relief for Participants in Operation Enduring Freedom 67 FR 30524 (May 6, 2002).

²⁷ Relief for U.S. Military and Civilian Personnel Who Are Assigned Outside the United States in Support of U.S. Armed Forces Operations final rule; request for comments 68 FR 36902 (Jun. 20, 2003).

²⁸ Relief for U.S. Military and Civilian Personnel Who Are Assigned Outside the United States in Support of U.S. Armed Forces Operations final rule, 70 FR 37946 (Jun. 30, 2005).

²⁹ Relief for U.S. Military and Civilian Personnel Who Are Assigned Outside the United States in Support of U.S. Armed Forces Operations direct final rule, 75 FR 9763 (Mar. 4, 2010). Relief for U.S. Military and Civilian Personnel Who Are Assigned Outside the United States in Support of U.S. Armed Forces Operations confirmation of effective date, 75 FR 19877 (Apr. 16, 2010).

The initial three-calendar-month period allowing reinstatement by FIRC is intended to address limited unique circumstances that may prevent a flight instructor from establishing recent experience prior to the end of their recent experience period. Conversely, a military deployment has longer-term impact than addressed by the three-month period provided by § 61.199(a)(1). The FAA notes that the relief provided by § 61.40 and § 61.199 respond to two distinctly different circumstances that necessitate separate solutions. As a result, the FAA finds it inappropriate to extend the three-calendar-month period to align with the relief available to U.S. military and civilian personnel assigned outside the United States in support of U.S. Armed Forces operations.

Comments Concerning the Relief Provided by the Proposed Reinstatement Requirements

One commenter, a national FIRC provider, opposed the proposal believing that the new requirements will only shift dates but result in the same consequences after the three-calendar-month period allowing reinstatement by FIRC. The commenter contended that this is not a burden reduction to instructors.

The FAA maintains that the three-calendar-month period will provide relief in many situations. Examples range from minor personal challenges to larger issues such as a natural disaster that could prevent a flight instructor from completing recent experience requirements prior to the end of their recent experience period. The FAA intends this relief to address these limited circumstances. As previously noted, numerous commenters supported the proposal and provided rationale which agrees with this intent. In its supporting comment, EAA stated that this option provides “a reasonable pathway for instructors who have inadvertently allowed a lapse in their flight instructor recent experience.” SSF said flight instructors would benefit from the additional method of reinstatement.

E. Instructor Qualifications for Training Initial Flight Instructor Applicants (§ 61.195(h); § 141.11; Part 141, Appendix K)

This final rule revises the qualification requirements for flight instructors seeking to train initial flight instructor applicants by adding two additional methods.

Section 61.195(h) contains the qualification requirements for flight instructors seeking to instruct initial flight instructor applicants. The NPRM proposed to restructure § 61.195(h)(2) to contain general qualifications for all flight instructors providing flight training to initial applicants for a flight instructor certificate, including flight instructors providing training under FAA-approved courses. This final rule retains these general requirements, which include the requirement for the flight instructor to meet the eligibility requirements of § 61.183 and hold the appropriate flight instructor certificate and rating. The FAA also proposed to require the flight instructor to meet the requirements of the part under which the flight training was conducted. In addition to these general requirements, the final rule provides three different qualification options.

The first option retains the existing requirements of current § 61.195(h)(2)(iii), (iv) and (v), which include the requirements for the flight instructor to have held the flight instructor certificate for at least 24 calendar months and to have given at least 200 hours of flight training as a flight instructor for training in preparation for an airplane, rotorcraft, or powered-lift rating (or 80 hours of flight training if training in preparation for a glider rating). This option is retained as § 61.195(h)(2)(i)(A) and (B).

The second qualification option modifies the previous § 61.195(h)(3). Previously, § 61.195(h)(3) allowed a person to serve as a flight instructor in an FAA-approved course for initial flight instructor applicants if that person has trained and endorsed at least five applicants for a practical test, at least 80 percent of those applicants passed the practical test on their first attempt, and the flight instructor has given at least 400 hours of flight training for training in an airplane, rotorcraft, or powered-lift rating (or 100 hours of flight training for training in a glider rating). This final rule modifies these requirements in the new § 61.195(h)(2)(ii) by removing the minimum flight training hour requirement and removing the requirement for the flight instructor to be serving in an FAA-approved course. Section 61.195(h)(2)(ii) now requires a flight instructor to have trained and endorsed, in the preceding 24 calendar months, at least five applicants for a practical test for a pilot certificate or rating, and at least 80 percent of those applicants must have passed that test on their first attempt. This will allow more flight instructors to exercise this qualification option as compared to the similar option previously available under § 61.195(h)(3).

For the third qualification, this final rule adds a new qualification method in § 61.195(h)(2)(iii). This option requires a flight instructor to have graduated from an FAA-approved flight instructor enhanced qualification training program (FIEQTP). Additionally, they must have given at least 200 hours of flight training as a flight instructor for training in preparation for an airplane, rotorcraft, or powered-lift rating (or 80 hours of flight training if in preparation for a glider rating) before being eligible to complete the FIEQTP.

The modified § 61.195(h)(2)(ii) and the new § 61.195(h)(2)(iii) are intended to expand the qualification options to instruct initial flight instructor applicants to include those serving under part 61 as well as those serving under an FAA-approved course under part 141 or 142.

Additionally, to allow part 141 pilot schools to provide the FIEQTP, the FAA proposed to revise § 141.11 by adding the training program to the list of special preparation courses in § 141.11(b)(2). The FAA also proposed to add the new training program to appendix K of part 141, which prescribes the minimum curriculum for the special preparation courses listed in § 141.11.

Due to the specific nature of each provision, the FAA discusses each amendment separately.

Comments Concerning the Qualification Option of Holding a Flight Instructor Certificate for at Least 24 Calendar Months With Minimum Hours of Instruction (§ 61.195(h)(2)(i))

Currently under § 61.195(h)(2), a flight instructor must, in addition to other requirements, have held a flight instructor certificate for at least 24 months and have given at least 200 hours of flight training as a flight instructor for an airplane, rotorcraft, or powered-lift rating (or 80 hours of flight training if in preparation for a glider instruction rating) to provide flight training to an initial flight instructor applicant under part 61. The FAA proposed to retain this qualification method under paragraph (h)(2)(i). The FAA received an array of comments supporting and opposing the retention of this qualification method.

Two commenters recommended lowering the eligibility requirements to qualify under this option. One of these commenters stated that the 24-calendar-month requirement presents an unnecessary obstacle to training initial flight instructor applicants and should be removed. Another commenter recommended reducing the minimum time to qualify to train an initial flight instructor in gliders from 80 to 20 hours of flight training, stating that the “80 hours of glider instruction” requirement is excessive, given the seasonal nature of soaring operations and the short duration of pattern tows and aerotows.³⁰

³⁰ Comment from Lawrence Spinetta, Docket No. FAA-2023-0825-0013.

Several commenters expressed the opinion that this qualification option may not be restrictive enough. Three commenters opposed this option due to doubts about whether these criteria assure sufficient instructional experience. Another commenter said that flight instructor experience differs from pilot experience and noted that 200 hours of instructional experience may not guarantee the flight instructor has the necessary qualifications to train an initial flight instructor applicant effectively. One commenter proposed increasing the hours of instructional experience from 200 to 500 hours.

While the FAA considered all the commenters' concerns and recommendations, the FAA does not agree that retaining this qualification requirement as it currently exists is either too restrictive or not restrictive enough. The FAA notes that over the years this existing requirement has proven to be an appropriate and effective standard. Adopted in a 1973 final rule, the flight instructor requirement has remained unchanged, which has allowed 50 years for both the FAA and industry to assess its effectiveness in achieving the intended safety standard.³¹ Given that proposed § 61.195(h)(2) retains this standard established in 1973 and has proven to provide a sufficient level of experience, the FAA believes that requiring more experience would impose an undue burden on the flight training industry as the FAA does not have data to demonstrate such a change would have a corresponding increase in safety. Conversely, reducing this qualification standard could lead to a decrease in the level of instructional skills, which in turn would diminish safety. As a result, the final rule retains the existing standard without modification.

³¹ Miscellaneous Amendments 38 FR 3156 (Feb. 1, 1973).

To provide additional relief while maintaining the existing standard, the FAA addresses the flight training industry's need for qualified instructors by introducing two alternative qualification methods that allow a flight instructor to train an initial flight instructor applicant in less than 24 months or with fewer than 200 hours of flight instruction (or 80 hours in the case of glider instruction) while retaining equivalent instructor experience to this existing qualification option.

One commenter proposed that the FAA should codify the issuance of gold seal flight instructor certificates in the regulations and allow only instructors with such certificates to be permitted to train initial flight instructor applicants. The gold seal flight instructor certificate, under current practice, is issued to instructors who exceed the standard regulatory requirements required for a flight instructor certificate and demonstrate high personal qualifications and exemplary records as active flight instructors. While this gold seal denotes a level of distinction to recognize instructors who have high personal qualifications and good records as active flight instructors, it does not confer additional flight instructor privileges.

Currently, the issuance of gold seal flight instructor certificates is based on FAA policy rather than regulatory authority.³² Thus, adopting the commenter's recommendation would require additional rulemaking to codify gold seal flight instructor certificates into regulation. The FAA concludes that the commenter's recommendation would reduce the number of flight instructors that would be eligible to train initial flight instructor applicants. There are a relatively small number of instructors who qualify or hold a gold seal on their flight instructor certificate, which would result in an insufficient number of available flight instructors qualified to provide training to an initial flight instructor applicant. For these reasons, the FAA will not adopt this recommendation.

³² FAA Order 8900.1, Volume 5, Chapter 2, Section 13.

Comments Concerning Qualification By Successfully Endorsing Applicants for Practical Tests (§ 61.195(h)(2)(ii))

Under this final rule, the FAA provides a modified § 61.195(h)(3) qualification option for flight instructors who wish to provide training to initial flight instructor applicants. As per the § 61.195(h)(2)(ii), a flight instructor may qualify to instruct an initial flight instructor applicant if that flight instructor has trained and endorsed at least five applicants for a practical test during the preceding 24 calendar months, and at least 80 percent of those applicants passed that test on their first attempt.

Several commenters, including Liberty University and Eastern Kentucky University, expressed support for this new qualification option. Liberty University stated the qualification option based on applicants endorsed for practical tests is “very encouraging as it rewards excellent instruction and student success.” Eastern Kentucky University said that both new options “provide much needed relief for the flight training industry.”

AOPA commented that the current 400-hour requirement for part 141/142 flight instructors is excessively burdensome. They recommended that the parts 141 and 142 requirement be lowered to 200 hours to align with the part 61 requirement.

In response, the FAA clarifies that under the new § 61.195(h)(2)(ii), the requirement to provide a specific number of flight training hours has been removed, addressing AOPA's concern. Furthermore, all qualification options available under § 61.195(h) apply equally to any instructor, regardless of whether the instruction is provided within an FAA-approved course.

Five commenters, including ALPA, opposed this qualification option, as they perceived this option would lower experience requirements, possibly resulting in reduced proficiency of initial flight instructor applicants.

In response, the FAA notes that an eligible flight instructor is required to have a record of demonstrated success training applicants under this qualification option. When a flight instructor recommends an applicant for a practical test, the applicant is independently evaluated by the FAA or designated examiner. This applicant assessment provides a performance measure that attests to the endorsing flight instructor's experience and instructional ability. At the end of each practical test, the FAA or examiner submits the applicant's paperwork and other relevant documentation to the Airmen Certification Branch. Here, it undergoes a final review, is officially accepted, and retained as part of the airman's FAA record. This process results in a reliable method to measure the instructor's competency through the rate of applicants who pass on their first attempt. For these reasons, the FAA finds that the § 61.195(h)(2)(ii) qualification option provides an equivalent level of experience to the existing standard of holding a flight instructor certificate for 24 calendar months and providing 200 hours of flight instruction.

Six commenters, including AOPA, NAFI, and SAFE, expressed concerns regarding instructors obtaining sufficient experience under the proposed option. These commenters provided examples such as a flight instructor endorsing applicants they trained only in the later stages of the applicants' training or flight instructors endorsing applicants they trained in an accelerated course of training, such as a course to add an additional class rating to an existing pilot certificate.

Several commenters expressed concern about an instructor qualifying under this option with limited experience and recommended adding additional requirements to address this concern. Recommendations included increasing the minimum number of applicants an instructor must endorse for a practical test from five to ten, extending the period an instructor must have held their flight instructor certificate to at least 24 months, specifying a minimum number of hours of flight training provided, or requiring the instructor to complete the entire course of training for each applicant they endorse.

In addressing these concerns, the FAA notes that the efficacy of a flight instructor is not solely dependent on the cumulative hours of flight instruction provided but is also significantly influenced by the quality of instruction and the resultant success of their students. An essential aspect of an instructor's role is their ability to prepare and assess whether the applicant is competent. To recommend an applicant for a practical test, an instructor must assess the applicant's competence in the appropriate aeronautical knowledge areas and proficiency in the appropriate areas of operation. The flight instructor must then attest to the adequacy of their assessment in their endorsement when recommending the applicant for the test.

The successful evaluation of the applicants endorsed by the instructor and then validated by the FAA or designated examiner further confirms the instructor's record of success in training initial applicants. For these reasons, the FAA finds that this qualification option provides an equivalent level of experience to the existing standard of holding a flight instructor certificate for 24 calendar months and providing 200 hours of flight instruction.

One commenter expressed concern regarding their understanding of the § 61.195(h)(2)(ii) qualification option, specifically regarding the requirement for flight instructors to demonstrate their experience “during the preceding 24 calendar months.” The commenter interpreted this as a perpetually ongoing requirement and expressed concern that this would pose a burden to flight instructors.

The FAA agrees that if an instructor utilizes this qualification option, they must meet the required experience within the 24 calendar months preceding the training or endorsement they wish to provide to an initial flight instructor applicant. However, this requirement is not intended to be an ongoing mandate to requalify. Once that instructor meets an alternate qualification method, they would no longer need to meet the activity level required by § 61.195(h)(2)(ii) within the preceding 24 calendar months to continue to train initial flight instructor applicants.

For instance, an instructor who has held their flight instructor certificate for at least 24 calendar months and has given 200 hours of flight instruction (or 80 hours in the case of glider) is then qualified to train an initial flight instructor under § 61.195(h)(2)(i). In this example, the activity level required under § 61.195(h)(2)(ii) would no longer apply. For this reason, the FAA does not anticipate the § 61.195(h)(2)(ii) option to qualify to train an initial flight instructor to be prohibitive to the flight instructor community.

Four commenters including the University of North Dakota, Embry-Riddle Aeronautical University, and Western Michigan University, sought clarification on whether flight instructors who instruct in an approved part 141 training course for which the pilot school holds examining authority could utilize the qualification option under § 61.195(h)(2)(ii). Specifically, they recommended clarifying whether the end-of-course test in a course with examining authority is considered a practical test.

The FAA has established that an end-of-course test under part 141 administered by a school with examining authority is a practical test and may be considered for the purposes of § 61.195(h)(2)(ii).³³ Therefore, a flight instructor in part 141 courses with examining authority may qualify to train an initial flight instructor applicant in accordance with § 61.195(h)(2)(ii).

³³ See Legal Interpretation to Crowe-Palm Beach Helicopters (August 28, 2015). drs.faa.gov/browse/excelExternalWindow/FAA000000000LEGALINTPR2015017PDF.0001.

Comments Concerning Qualification Based on an FAA-Approved FIEQTP (§ 61.195(h)(2)(iii) and (h)(3))

The third qualification option, § 61.195(h)(2)(iii), provides another alternative to the 24 calendar month experience requirement. This qualification option permits a flight instructor to qualify to instruct initial flight instructor applicants if the flight instructor has given at least 200 hours of flight training (or 80 hours of flight training if in preparation for a glider rating) and has graduated from an FAA-approved FIEQTP conducted under part 141 or 142. This training program must satisfy the requirements in § 61.195(h)(3) and is intended to develop a flight instructor's ability to instruct initial flight instructor applicants.

ALPA expressed concerns regarding the FIEQTP, questioning whether the program provides equivalent experience to the current requirements.

In addressing ALPA's concern, the FAA notes that the FIEQTP replaces the requirement to hold a flight instructor certificate for 24 months. Instructors are still required to have provided 200 hours of flight training (or 80 hours of flight training if in preparation for a glider rating). These hour requirements have long been the standard flight instructor experience to train initial flight instructor applicants and have proven effective. Therefore, before taking the FIEQTP, the new flight instructor will acquire hands-on experience as a flight instructor in the aircraft. This experience, combined with the knowledge and skills acquired from completing the FIEQTP would prepare and qualify the flight instructor to instruct initial flight instructor applicants.

Embry-Riddle Aeronautical University and Liberty University commented on the required FIEQTP training content, expressing similar opinions that the course appears to be flight instructor remedial training. One commenter also presented a series of questions about the FIEQTP training content and testing standards. This commenter specifically questioned how much of the FIEQTP would repeat testing and training the flight instructor received during their own commercial pilot and initial flight instructor training. Another commenter recommended that the FIEQTP should be limited to only ground instruction and available as an online course to increase access to flight instructors.

The FAA notes that FIEQTP course content, as detailed in § 61.195(h)(3), is not intended to be remedial or simply a review of what attendees have previously learned. The FIEQTP provides specialized training to develop the attendee's ability to instruct initial flight instructor applicants. Furthermore, the recommendation to eliminate the flight training component from the course has been carefully evaluated. The FAA believes that excluding this aspect would undermine the training program's effectiveness, as flight training is integral in preparing attendees to competently provide practical flight training to initial flight instructor applicants. Therefore, the FAA will not limit this course to only ground instruction.³⁴

³⁴ For additional guidance and recommendations on the preparation and approval of an FIEQTP required under § 61.195(h)(3), refer to Advisory Circular 61-145.

One commenter recommended that the required content of the FIEQTP found in § 61.195(h)(3) should be less prescriptive and instead focus on course outcomes.

The FAA notes that specific ground subjects and flight tasks outlined in § 61.195(h)(3)(i) and (ii) are required to be included in the FIEQTP to ensure clarity and consistency across various course providers. The FAA finds that defining the specific content aids both the course providers and the approving FAA officials in determining what is required for the FIEQTP.

Embry-Riddle Aeronautical University recommended a reduction in the required hours for both ground and flight training in the FIEQTP because the flight instructors enrolled in the course would have received similar training during their own initial flight instructor training. Additionally, another commenter raised concerns about the time commitment required in the FIEQTP, suggesting it could limit the availability of qualified instructors.

As discussed in the NPRM, the FAA expects that the requirement of 25 hours of ground training and 10 hours of flight training would promote standardization among the training programs. The FAA believes that reducing minimum course hours would potentially compromise the depth and breadth of the knowledge, skills, and abilities that attendees are expected to acquire. Therefore, the FAA declines to adopt these recommendations.

AOPA and Liberty University questioned the anticipated utilization of completing an FIEQTP to qualify to train an initial flight instructor due to the associated cost and complexity of qualifying to train a limited segment of the pilot population. Another commenter expressed similar sentiment about limited access to the course for instructors outside the part 141 or 142 certificate holder offering the course and suggested allowing other entities to seek FIEQTP course approval under part 61.

The FAA acknowledges these concerns but emphasizes that the FIEQTP is designed as an option to qualify to train initial flight instructor applicants. While the FIEQTP might appeal to the course provider's own instructors, it is important to note that the FIEQTP is open to all flight instructors, irrespective of their current affiliations. The intent is to provide an additional qualification option to all flight instructors to maximize flexibility.

The decision to limit approval to parts 141 and 142 certificate holders is based on the specific capabilities inherent to these entities, which are equipped with the necessary organizational structure, systems, and qualified management personnel. Furthermore, by limiting approval to parts 141 and 142 certificate holders, the FAA has oversight and can mandate changes to ensure that programs meet the intended course objectives.

The University of North Dakota and Embry-Riddle Aeronautical University recommended that a part 141 chief instructor should be authorized to designate who may teach in an approved FIEQTP to provide a greater pool of instructors for these courses. Another commenter similarly expressed concerns about the difficulty in finding qualified instructors for the FIEQTP due to the significant time commitment involved in the course.

Given the specialized nature of the FIEQTP, the FAA finds that a higher level of expertise and experience is required. The designated groups—chief and assistant chief instructors at part 141 pilot schools and program managers and assistant training center program managers at part 142 training centers—are deemed to have the requisite experience and expertise for this advanced training role. Additionally, those instructors who fulfill the qualifications of a chief instructor or assistant chief instructor pursuant to § 141.36(d) are also eligible to instruct the FIEQTP. The FAA recognizes that these instructors possess the necessary qualifications to be a chief instructor or assistant chief instructor, even if they do not currently hold these titles due to reasons unrelated to their instructional abilities.

Considering the specialized nature of the FIEQTP, the FAA does not support the recommendation to allow a part 141 chief instructor to designate personnel with potentially less experience or knowledge than those specified in the approved groups to teach within an FIEQTP. Therefore, the FAA declines to reduce FIEQTP instructor requirements.

Use of Flight Simulation Training Devices in FIEQTPs

Appendix K of part 141 contains limitations for special preparation courses utilizing full flight simulators (FFSs) and flight training devices (FTDs) that are more restrictive than § 61.195(h)(3)(iv) and (v) permit. Specifically, paragraph 4.(b) of appendix K provides that an FFS may only be credited for a maximum of 10% of the total flight training hour requirements of the approved course, and paragraph 4.(c) provides that an FTD may be credited for a maximum of 5 percent of the total flight training hour requirements of the approved course. However, § 61.195(h)(3)(iv) and (v) proposed to permit all flight training hours to occur in an FFS or FTD and 5 hours of flight training to occur in an advanced aviation training device. Therefore, to eliminate the conflict between the provisions, the NPRM proposed to revise paragraph 4.(b) to except the FIEQTP from the FFS credit limitations of appendix K, and proposed to revise paragraph 4.(c) to except the FIEQTP from the FTD credit limitations of appendix K. The FAA did not receive any comments specific to the use of flight simulation training devices in FIEQTPs and is therefore adopting these provisions.

Additionally, part 141 prescribes the circumstances under which aviation training devices (ATDs) may be utilized for flight training credit. However, appendix K of part 141 only contemplates the use of an FFS and an FTD for special preparation flight training, not an ATD. Because an advanced aviation training device (AATD) may be used in flight training for FIEQTPs, the FAA proposed to revise appendix K, paragraph 4. Specifically, paragraph 4.(a) would include a provision that only permits an FIEQTP to utilize AATDs in accordance with appendix K, paragraph 14, and § 61.195(h)(3)(v). The FAA did not receive any comments regarding these provisions and is adopting them as final.

F. Conforming Amendments (§§ 61.2, 61.56, 61.425, 61.427)

The FAA proposed to make conforming amendments to §§ 61.2, 61.56, 61.425, 61.427, and Special Federal Aviation Regulation (SFAR) No. 100-2 to ensure consistency with the FAA's proposal to amend §§ 61.197 and 61.199.

Section 61.2(b) requires persons to meet the appropriate airman and medical recent experience requirements to exercise privileges of an airman certificate, rating, endorsement, authorization, or foreign pilot license. Currently, § 61.2(b) refers to the recent experience requirements of part 61 as “recency” requirements rather than “recent experience” requirements. The FAA recognizes that it uses the terms “recency,” “recent flight experience,” and “recent experience” requirements interchangeably in the regulations. However, the terms “recent flight experience” and “recent experience” are used more frequently than “recency.” The FAA proposed to revise § 61.2(b) to use the term “recent experience” requirements to create consistency within part 61 and conform to the proposed changes to § 61.197. The FAA did not receive any comments on this proposed revision and is adopting it as final.

Section 61.56 prescribes the requirements for a flight review, which must consist of a minimum of 1 hour of flight training and 1 hour of ground training. Except as specified in § 61.56(d), (e), and (g), a person may not act as pilot-in-command (PIC) of an aircraft unless that person has accomplished a flight review in the 24 calendar months preceding the month in which the pilot acts as PIC.³⁵

³⁵ 14 CFR 61.56(c).

Therefore, § 61.56(d) contains certain exceptions to the flight review requirements. Under § 61.56(d)(2), a person need not accomplish a flight review if the person has passed a practical test conducted by an examiner for one of the following: the issuance of a flight instructor certificate, an additional rating on a flight instructor certificate, renewal of a flight instructor certificate, or the reinstatement of a flight instructor certificate. Therefore, the FAA proposed to revise the language of § 61.56(d)(2) to conform to the changes proposed in §§ 61.197 and 61.199. The FAA did not receive any comments on this conforming amendment and is adopting it as final.

Additionally, the FAA proposed a minor editorial change to § 61.56(e) to remove the word “award” in the description of the FAA-sponsored pilot proficiency program. The FAA did not receive any comments on this editorial change and is adopting it as final.

Section 61.56(f) provides an exception to the ground training portion of the flight review requirement. Under current § 61.56(f), a person who has satisfactorily renewed their flight instructor certificate under current § 61.197 is not required to accomplish the one hour of ground training required for a flight review. Because proposed § 61.197 would contain recent experience requirements for a flight instructor certificate rather than renewal requirements, the FAA proposed to make conforming amendments to § 61.56(f). Therefore, § 61.56(f) would except a flight instructor from the ground training requirements of a flight review if that flight instructor has met the recent experience requirements for a flight instructor certificate under § 61.197. Further, the FAA proposed to revise § 61.56(f) to except any persons who reinstate their flight instructor privileges from the ground training portion of the flight review by completing an approved FIRC within the three-calendar-month reinstatement period proposed in § 61.199(a)(1). The FAA did not receive comments on these provisions and is adopting them as proposed.

Currently, §§ 61.425 and 61.427 prescribe renewal and reinstatement requirements for persons who hold a flight instructor certificate with a sport pilot rating. Under § 61.425, a person who holds a flight instructor certificate with a sport pilot rating may renew that certificate in accordance with § 61.197. Section 61.427 allows a person to exchange their expired flight instructor certificate with a sport pilot rating for a new certificate with a sport pilot rating and any rating on that certificate by passing a practical test as prescribed in § 61.405(b) or § 61.183(h) for one of the ratings listed on their expired flight instructor certificate.

To ensure consistency with the proposed amendments to §§ 61.197 and 61.199, the FAA proposed to make conforming amendments to §§ 61.425 and 61.427. The FAA proposed to bifurcate § 61.425 into two paragraphs. Section 61.425(a) would govern flight instructor certificates issued without expiration dates. Section 61.425(b) would govern flight instructor certificates issued prior to the final rule becoming effective, which would contain expiration dates. Thus, § 61.425(a) would require a person who holds a flight instructor certificate with a sport pilot rating issued after the final rule's effective date to establish recent experience in accordance with § 61.197 (i.e., within the 24 preceding months, the person has satisfied one of the recent experience requirements in § 61.197(b)). For persons who hold unexpired flight instructor certificates with a sport pilot rating issued before the final rule becomes effective, § 61.425(b) would allow those persons to renew their certificate by establishing recent experience in accordance with § 61.197 prior to the expiration month listed on their flight instructor certificate.

In addition, the FAA proposed to revise § 61.427 to align with the proposed amendments to § 61.199. Therefore, proposed § 61.427 would address how to reinstate flight instructor privileges if a person fails to establish recent experience for a flight instructor certificate with a sport pilot rating. Consistent with proposed § 61.199, a person who holds a flight instructor certificate with a sport pilot rating must reinstate their flight instructor privileges by successfully completing an approved FIRC if three calendar months or less have passed since the last month of their recent experience period. Section 61.427(a) would contain this proposed requirement. If more than three calendar months have passed since the last month of the flight instructor's recent experience period, the flight instructor with a sport pilot rating would be required to pass a practical test in accordance with proposed § 61.427(b) to reinstate their flight instructor privileges.

The FAA did not receive comments specific to these provisions as they relate to sport pilots, as differentiated from other pilots. Therefore, the FAA is adopting these provisions as discussed previously.

G. SFAR No. 100-2 Codification Under § 61.40 and Associated Amendments

Currently, SFAR No. 100-2 provides relief to U.S. military and civilian personnel who have served outside the United States in support of U.S. Armed Forces operations during some time beginning on or after September 11, 2001. SFAR No. 100-2 allows these persons to present an expired flight instructor certificate to show eligibility for renewal of a flight instructor certificate under § 61.197; an expired written test report to show eligibility to take a practical test under parts 61, 63, and 65; and an expired inspection authorization to show eligibility for renewal under § 65.93. To exercise the relief provided by SFAR No. 100-2, the person must renew their flight instructor certificate or inspection authorization, as appropriate, or pass the appropriate practical test within six calendar months after returning to the United States. The FAA proposed to codify the general contents of SFAR No. 100-2 as new § 61.40.

The initial intent of SFAR No. 100-2, as documented in the preambles of earlier SFARs such as SFAR No. 96 ³⁶ and SFAR No. 100,³⁷ was to alleviate the challenges faced by military and civilian personnel whose certificates expired while they were deployed. However, ambiguities in the language of SFAR No. 100-2 have led to confusion about the exact timing of when certain documents must have expired to qualify for this relief. As written in SFAR No. 100-2 currently, and proposed in § 61.40(b)(2), the regulation broadly requires that the documents expire “some time” between September 11, 2001, and no later than 6 calendar months after returning to the U.S., which the FAA finds could introduce confusion as to whether the expiration must have occurred during the person's service outside the U.S or immediately following the person's return.

³⁶ The final rule for SFAR No. 96 stated, “if an inspection authorization expires while a person is assigned to Operation Enduring Freedom . . .” (67 FR at 30525).

³⁷ The final rule for SFAR No. 100 stated, “[b]ecause of the expected duration of these assignments, the FAA determined that the flight instructor certificates, inspection authorizations, and airman written test reports held by some U.S. military and civilian personnel may expire before they return to the United States.” (68 FR at 36903).

In response to these ambiguities, the FAA revises § 61.40(b)(2) in this final rule to clarify the expiration period of the relevant certificates as (1) while the person serves in an operation as set forth in § 61.40(b)(1), or (2) six calendar months after returning to the United States.

One commenter responded with an opposing comment. The commenter opposed the underlying inspection authorization renewal options of § 65.93(a)(1) and (2). The commenter recommended that these options should be combined to allow an inspection authorization to be renewed based on a combination of annual inspections and major repairs or alterations. However, this commenter's recommendation exceeds the scope of this rulemaking, which focuses solely on relocating and codifying the existing content of SFAR No. 100-2 into the regulations. This rulemaking did not contemplate nor intend changing the underlying inspection authorization renewal requirements. Therefore, the FAA declines to adopt this recommendation.

The FAA proposed to revise certain sections of parts 61, 63, and 65 to enable persons to exercise the relief provided by proposed § 61.40. More specifically, the FAA proposed to revise § 61.39, which contains the prerequisites for practical tests under part 61, by adding new § 61.39(e) to allow applicants for an airman certificate or rating under part 61 to take a practical test with an expired knowledge test if that applicant meets the requirements of proposed § 61.40. The FAA also proposed to include exception language referencing new § 61.39(e) in § 61.39(a), (b), and (c), which would implement the relief provided by proposed § 61.40. With respect to part 63, the FAA proposed to revise §§ 63.35(d) and 63.53 to allow applicants for flight engineer certificates or ratings and applicants for flight navigator certificates to take their practical tests under part 63 with expired written test reports in accordance with § 61.40.³⁸ With respect to part 65, the FAA proposed to revise §§ 65.55 and 65.71 ³⁹ to allow applicants for aircraft dispatcher certificates and mechanic certificates or ratings to take their practical tests under part 65 with expired written test reports in accordance with § 61.40. Section 65.55(b) and (c) was proposed to add an exception to allow eligible persons to take a practical test for an aircraft dispatcher certificate under part 65 with an expired written test report in accordance with § 61.40. Section 65.75(d) was proposed to except eligible persons from the requirement that a certificated mechanic must pass the required tests within a period of 24 months. These revisions would ensure the relief currently provided by SFAR No. 100-2 would remain unchanged under the FAA's proposal to relocate and codify the relief in the regulations.

³⁸ Additionally, the FAA proposed to revise § 63.35(c) to remove a gender reference and clarify that the 24 month period is calendar months.

³⁹ The FAA also proposed to revise § 65.71(a)(4) to remove a gender reference and clarify that the 24 month period is calendar months.

Lastly, in § 61.40(a)(6) the FAA proposed to allow persons to renew an expired inspection authorization under § 65.93. Because § 65.93 does not currently allow for this relief, the FAA proposed to add new paragraph (d) and to include exception language in current § 65.93(a) to expressly allow an eligible person to renew an expired inspection authorization under part 65 in accordance with § 61.40.

The FAA did not receive comments directly related to these provisions and is adopting them as final.

H. Miscellaneous Comments

LeTourneau University requested changes to Advisory Circular (AC) 61-65, particularly to reassess the sample endorsements for student solo (A.4, A.6, and A.7), which they believed do not align with the interpretation letter from the FAA's Office of the Chief Counsel to James McHenry dated May 21, 2015.⁴⁰ This legal interpretation stated that § 61.87(n) and (p) apply only to the solo logbook endorsement.

⁴⁰ See Legal Interpretation to James McHenry (May 21, 2015). drs.faa.gov/browse/excelExternalWindow/FAA000000000LEGALINTPR2015044PDF.0001.

The FAA understands the University's comment to mean that they believe the sample endorsements in AC 61-65 do not align with the McHenry (2015) legal interpretation. However, the University did not provide a detailed explanation for this belief.

The FAA notes that the McHenry (2015) legal interpretation characterizes daytime solo endorsements as one type of endorsement, while the nighttime solo endorsement is characterized as a separate endorsement. The FAA believes that retaining each solo endorsement recommended in AC 61-65 ensures that the flight instructor who provided the required training certifies that the training was indeed provided. As a result, the FAA declines to change these suggested endorsements.

One commenter asked if the standards to receive and retain a gold seal flight instructor certificate would change because of this rulemaking. Another commenter recommended that the FAA revise the eligibility criteria for gold seal flight instructor certificates and take into consideration more than just recommendations for a practical test to determine eligibility.

As discussed in section IV.D. of this preamble, gold seal flight instructor certificates are not issued under regulatory authority, but instead issued under FAA policy. The FAA did not contemplate changing this policy as part of this rulemaking. Adopting the commenter's recommendation to change the existing standard would require additional rulemaking to codify gold seal flight instructor certificates. Additionally, the FAA policy for the issuance of a gold seal flight instructor certificate relies on a flight instructor's recommendations for practical tests because these recommendations result in a demonstrated record of success training pilots, as assessed by the FAA or designated examiner. This assessment provides a performance measure that attests to the endorsing flight instructor's proficiency and instructional ability. Eligibility criteria not relying on this performance measure would not ensure the flight instructor meets the intended standards. For these reasons, the FAA will not adopt this recommendation and will retain existing gold seal flight instructor certificate policy.

One commenter suggested that the FAA address the personal liability associated with flight instruction, which the commenter believes has resulted in flight instructors quitting active flight instruction.

Although the FAA understands this commenter's concern and interest in retaining experienced flight instructors, addressing personal liability is not within the scope of this rulemaking nor the FAA's authority and role. The FAA regulates U.S. civil aviation to promote safety in air commerce.

One commenter recommended that the FAA increase the requirements for a flight instructor to qualify to endorse a student pilot for solo flight.

Currently, a flight instructor with a valid flight instructor certificate may endorse a student pilot for solo flight when the student has met the aeronautical knowledge and pre-solo flight training requirements of § 61.87. The FAA did not intend to change these limitations or establish new requirements for a flight instructor to endorse a student pilot for solo flight as part of this rulemaking. The FAA believes that the requirements of § 61.87, along with the eligibility requirements to obtain a flight instructor certificate, establish an acceptable standard. The FAA will not adopt this recommendation.

One commenter proposed three recommendations to improve a flight instructor's “ability to teach safety and safely.” ⁴¹ The suggestions included restructuring the Aviation Instructor's Handbook, conducting regular reviews of flight instructors offering flight instruction under part 61, and addressing the issue of designated pilot examiners who conduct a high number of practical tests per year at “$900 to $1,000 per ride-with what appears to be profit-driven motive.”

⁴¹ Comment from Timothy Heron, Docket No. FAA-2023-0825-0133.

The FAA appreciates the feedback on the Aviation Instructor's Handbook. However, this document is not within the purview of this rulemaking and will not be restructured as a result of it. The commenter's recommendation to “review” flight instructors providing instruction under part 61 seems to comment on the FAA's flight instructor surveillance policy.⁴² The existing part 61 flight instruction oversight policy cannot be revised through this rulemaking. Finally, this rulemaking did not intend changes to designated pilot examiner authorization or oversight, nor can it address the commenter's specific concerns about the cost of practical tests conducted by DPEs. Current FAA policy addresses DPE activities and oversight. Therefore, the FAA will not adopt these recommendations as they fall outside the scope of this rulemaking.

⁴² See FAA Order 8900.1, Volume 6, Chapter 1, Section 5. drs.faa.gov/browse/excelExternalWindow/DRSDOCID184370682820230531144311.0001.

One commenter requested that the FAA reevaluate DPE eligibility standards to address a shortage of DPEs. As discussed, this rulemaking did not intend to change or address DPE policy, and this policy is beyond the scope of this rulemaking.

Two commenters, including SAFE and one individual, recommended the FAA update the WINGS Program's FAASafety.gov website. The FAA appreciates this feedback, however changes to the FAASafety.gov website is beyond the scope of this rulemaking.

One commenter recommended expansion of ground instructor privileges by allowing them to act as a certifying official on student pilot certificate applications. Additionally, the commenter recommended allowing ground instructors to verify identity and citizenship requirements for pilots seeking flight training in accordance with Transportation Security Administration (TSA) requirements.

Section 61.85(b) establishes the certifying officials who may accept an application for a student pilot certificate. Notably, ground instructors are not included. The FAA did not intend to change ground instructor privileges as part of this rulemaking and believes the existing certifying officials are sufficient to process student pilot certificate applications. The FAA declines to adopt this recommendation. This commenter's additional recommendation to allow ground instructors to verify citizenship to meet TSA requirements found in 49 U.S.C. part 1552 is beyond the scope of this rulemaking.

One commenter recommended that flight instructor eligibility requirements should not require a practical test to obtain a flight instructor certificate. The commenter recommended that only the currently required knowledge tests should be required for the issuance of a flight instructor certificate. The commenter believed that this recommendation would address the perceived difficulty and expense of flight instructor certification.

The FAA notes that the flight instructor practical test ensures that the instructor applicant has the instructional knowledge and skill to meet standards. Removing the practical test requirement would have an adverse impact on safety because it would no longer ensure a flight instructor meets the flight instructor instructional knowledge and skill standards. Additionally, this rulemaking did not contemplate a change to flight instructor eligibility requirements, currently found in § 61.183, or § 61.405 for flight instructors with a sport pilot rating. The FAA will not adopt this recommendation.

One commenter supported proposed rulemaking but recommended “a 24-month recovery opportunity for instructors who were sidelined due to COVID-related issues.” The FAA finds that the proposed reinstatement options would allow flight instructors impacted by COVID-19 to reinstate their flight instructor privileges by practical test. The FAA declines to adopt the recommendation for additional relief.

In their comment, AOPA asked how the proposed rule would affect part 141 chief and assistant chief instructors, who are currently required to complete a FIRC every 12 months. The FAA notes that this rulemaking does not change part 141 chief flight instructor or assistant chief flight instructor requirements. In accordance with § 141.79(c), those instructors would need to complete an approved syllabus of training consisting of ground or flight training, or both, or an approved FIRC every 12 months. These instructors may also choose to reestablish recent experience based on completion of this approved FIRC.

One commenter believed that an industry group received an opportunity to comment on the draft proposal prior to publication of the NPRM and other industry groups were excluded. The FAA affirms that no industry groups or individuals were given advance opportunity to review and comment on this rulemaking prior to publication of the NPRM.

One individual recommended extending the comment period. In this case, the commenter recommended that the FAA withdraw this proposal, convene a working group, and consult with the flight training industry to get their input; or at least extend the comment period until after July 2023. To respond to this commenter's request to extend the comment period, the FAA reopened the comment period for an additional thirty (30) days, from November 1, 2023, through December 1, 2023. Under the guidance of Executive Order 13563,⁴³ which provides that the public must be afforded a meaningful opportunity to comment with a comment period that should generally be at least 60 days, the FAA finds that the additional 30 day comment period provided sufficient opportunity for the public to comment (i.e., a total period of 60 days). Additionally, the FAA found that the APA process of notice and comment was sufficient to gather relevant perspectives and continue the rulemaking process. Therefore, the FAA will neither convene an Aviation Rulemaking Committee nor a working group as part of this rulemaking action.

⁴³ See www.federalregister.gov/documents/2011/01/21/2011-1385/improving-regulation-and-regulatory-review.

V. Severability

As discussed in section II. Of this preamble, Congress authorized the FAA by statute to promote safe flight of civil aircraft in air commerce by prescribing, among other things, regulations and minimum standards for practices, methods, and procedures the Administrator finds necessary for safety in air commerce.⁴⁴ Consistent with that mandate, the FAA promulgates the regulations described herein to remove the flight instructor certificate expiration date and to substitute the renewal requirement with a recency requirement. However, the FAA recognizes that certain provisions of this final rule make additional unrelated changes to the regulations. Therefore, the FAA finds that the various provisions of this final rule are severable and able to operate functionally if severed from each other. In the event a court were to invalidate one or more of this final rule's unique provisions, the remaining provisions should stand, thus allowing the FAA to proceed with revising flight instructor certificates within its Congressionally authorized role of promoting safe flight of civil aircraft in air commerce.

⁴⁴ 49 U.S.C. Subtitle VII, Subpart i of part A, Section 40113, Administrative, and Subpart iii, Section 44701, General Requirements; Section 44702, Issuance of Certificates; Section 44703, Airman Certificates; Section 44704, Type Certificates, Production Certificates, Airworthiness Certificates, and Design and Production Organization Certificates; Section 44705, Air Carrier Operating Certificates; and Section 44707, Examination and Rating of Air Agencies.

VI. Regulatory Notices and Analyses

Federal agencies consider impacts of regulatory actions under a variety of executive orders and other requirements. First, Executive Order 12866, Executive Order 13563, and Executive Order 14094 (“Modernizing Regulatory Review”), direct that each Federal agency shall propose or adopt a regulation only upon a reasoned determination that the benefits of the intended regulation justify the costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. Fourth, the Unfunded Mandates Reform Act of 1995 (Pub. L. 104-4) requires agencies to prepare a written assessment of the costs, benefits, and other effects of proposed or final rules that include a Federal mandate that may result in the expenditure by State, local, and Tribal governments, in the aggregate, or by the private sector, of $100,000,000 or more (adjusted annually for inflation) in any one year. The current threshold after adjustment for inflation is $183,000,000, using the most current (2023) Implicit Price Deflator for the Gross Domestic Product. This portion of the preamble summarizes the FAA's analysis of the economic impacts of this rule.

In conducting these analyses, the FAA has determined that this rule: will result in benefits that justify costs; is not a significant regulatory action as defined under section 3(f)(1) of Executive Order 12866; will not have a significant economic impact on a substantial number of small entities; will not create unnecessary obstacles to the foreign commerce of the United States; and will not impose an unfunded mandate on State, local, or Tribal governments, or on the private sector.

A. Regulatory Evaluation

The FAA will amend part 61 of title 14 of the Code of Federal Regulations by (1) removing the expiration date on the flight instructor certificate; (2) allowing flight instructors whose recent experience has lapsed by no more than three calendar months to reinstate their flight instructor privileges by taking a FIRC; (3) identifying an FAA-sponsored pilot proficiency program (e.g., WINGS-FAA Pilot Proficiency Program) as an additional method for a flight instructor to meet recent experience requirements; (4) revising the qualifications for flight instructors seeking to train initial flight instructor applicants under 14 CFR 61.195(h)(2); and (5) codifying SFAR No. 100-2, with clarifying revisions.

The FAA estimates this rule to result in $5.6 million, discounted over five years, in cost savings to FAA and industry, which includes removing the expiration date on the flight instructor certificate as well as allowing flight instructors whose recent experience has lapsed by no more than three calendar months to reinstate flight instructor privileges by taking a FIRC. These cost savings are driven primarily by the cost savings to industry of removing the expiration date on the flight instructor certificate.

This final rule includes two changes not originally proposed. The first change corrects § 61.197(b)(2)(v) by replacing a requirement for “15 hours” to “15 activities.” The second change corrects § 61.51(h)(2)(ii) by aligning pilot logbook training time descriptions with the removal of the flight instructor certificate expiration date. The FAA notes that there is no cost impact associated with either of these changes.

None of the comments received resulted in any changes to the FAA assessment of cost savings or costs. For instance, one commenter claimed that the FIEQTP may not be a popular program with parts 141 and 142 flight training centers or CFIs due to the cost and complexity associated with it. According to the commenter, the FAA estimated that it would cost a school an average of over $5,000 in the first year to establish the course. In subsequent years, it would then cost slightly over $2,000 per year in course revisions, approvals, and record keeping expenses. Although the FAA estimated costs for this new training program, the FAA also pointed out that participation in FIEQTP will not be mandatory; instead, it will be one option to become qualified to instruct initial flight instructor applicants. Three commenters contended that the only cost savings from removing the expiration date from flight instructor certificates is to the FAA in the production and mailing of new certificates. In the detailed analysis in the following section, the FAA points out that it also estimated cost savings to industry of approximately $2.7 million present value at a 2 percent discount rate for this provision. Therefore, there have been no changes to this analysis as it was proposed except for updates with more recent data on the number of initial flight instructor certificates, the number of flight instructor certificate renewals, the number of pilot schools and the number of training centers. Additionally, this final rule has been updated from the NPRM to convert to 2024 dollars from 2022 dollars and to add a present value discounted at two percent for cost savings and costs.

1. Removing the Expiration Date on the Flight Instructor Certificate

Currently, a flight instructor certificate expires 24 calendar months from the month in which the FAA issued, renewed, or reinstated that certificate. The FAA will remove the expiration date from the flight instructor certificate, which will eliminate the need to renew that certificate prior to its expiration date by passing a practical test or by submitting a completed and signed application with the FAA and satisfactorily completing one of the currently enumerated renewal requirements. These current renewal requirements will become recent experience requirements. Consequently, the FAA will no longer need to create new physical flight instructor certificates upon each applicant's recent experience cycle after that person receives their permanent certificate without an expiration date.

To estimate the cost savings associated with removing the expiration date from flight instructor certificates, the FAA begins with estimating the baseline number of certificates and associated costs avoided. The FAA estimates that from 2013 to 2023 the number of initial flight instructor certificates grew from 2,348 to 9,280 ⁴⁵ (i.e., the average annual growth rate from 2013 to 2023 was 14.73 percent). Using this 14.73 percent annual growth rate, the FAA forecasts the initial flight instructor certificates over the next years. Similarly, the FAA estimates that from 2013 to 2023, the number of flight instructor certificate renewals grew from 41,467 to 61,782 ⁴⁶ (i.e., the average annual growth rate from 2013 to 2023 was 4.07 percent). Using this 4.07 percent annual growth rate, the FAA forecasts the flight instructor certificate renewals over the next years.

⁴⁵ Source: FAA Airman Certification Branch.

⁴⁶ Ibid.

The FAA determined the cost of issuing the physical flight instructor certificates by estimating the mean labor cost for the applicants that complete and submit FAA Form 8710 applications.⁴⁷ The FAA finds that the variety of people with various pay levels that work on issuing flight instructor certificates are classified using the May 2022 North American Industry Classification System under NAICS code ⁴⁸ 481200, “Nonscheduled Air transportation.” ⁴⁹ Therefore, the FAA assumes that the mean hourly wage of $47.13 of all occupations is representative of pilots and representative occupations. The FAA then applies the appropriate multipliers for overhead (this includes health benefits, vacation, sick time, etc.). More specifically, the FAA increases the base hourly rate by 42.25 percent, which is based on the percent of total compensation for transportation employees,⁵⁰ resulting in a fully burdened wage rate of approximately $67.04 per hour. FAA estimates the time to produce each physical flight instructor certificate is 6 minutes, or 0.1 hours.⁵¹

⁴⁷ This includes FAA Form 8710-1, Airman Certificate and/or Rating Application and Form FAA 8710-11, Airman Certificate and/or Rating application—Sport Pilot.

⁴⁸ The NAICS code is the standard used by Federal statistical agencies in classifying business establishments for the purpose of collecting, analyzing, and publishing statistical data related to the U.S. business economy.

⁴⁹ U.S. Bureau of Labor Statistics, NAICS 481200—Nonscheduled Air Transportation www.bls.gov/oes/2022/may/naics4_481200.htm.

⁵⁰ Percent of total compensation = 29.7%. Source: Bureau of Labor Statistics News Release. Employer Costs for Employee Compensation—December 2020. www.bls.gov/news.release/archives/ecec_03182021.htm.

⁵¹ Source: www.reginfo.gov/public/do/PRAViewICR?ref_nbr=201809-2120-009.

Using the preceding information, the FAA estimates that during the first five years, the cost savings to industry will be approximately $2.7 million present value at a 2 percent discount rate, with annualized savings of $573 thousand. The results are presented in Table 1.

Table 1—Total Industry Cost Savings
Year | Initial flight instructor (forecast) | Flight instructor renewals (forecast) | Average wage per hour | Time to process each flight instructor (in hours) | Cost savings | Present value at: 2% | Present value at: 3% | Present value at: 7%
1 | 10,647 | 64,295 | $67.04 | 0.1 | $502,411 | $502,411 | $502,411 | $502,411
2 | 12,216 | 66,910 | 67.04 | 0.1 | 530,461 | 520,060 | 515,010 | 495,758
3 | 14,015 | 69,632 | 67.04 | 0.1 | 560,769 | 538,994 | 528,579 | 489,798
4 | 16,080 | 72,465 | 67.04 | 0.1 | 593,606 | 559,368 | 543,233 | 484,559
5 | 18,449 | 75,412 | 67.04 | 0.1 | 629,244 | 581,324 | 559,075 | 480,047
Total | 71,407 | 348,714 |  |  |  | 2,702,157 | 2,648,308 | 2,452,573
Notes: (i) initial certificates forecast based on historic rate of 14.73 percent per year; (ii) Flight instructor renewal forecast based on historic rate of 4.07 percent per year; and (iii) estimates may not total due to rounding.

Using the initial flight instructor certificates forecast and the flight instructor certificate renewals forecast, the FAA estimates the costs savings to the Federal Government. The FAA determined the cost of issuing physical airman certificates by estimating the mean labor cost for clerks. The FAA estimates the salaries for the clerks based on the 2024 General Schedule Locality Pay Tables using the Rest of the United States locality pay multiplier. The FAA uses 36.25 percent to calculate the overhead benefits multiplier. The total salary, including overhead, is $92,597 ($44.52 per hour). The time to produce each flight instructor certificate is estimated at 0.1 hours.⁵² Using this information, the FAA estimates that during the first five years, the FAA cost savings will be approximately $1.8 million present value at a 2 percent discount rate, with annualized savings of $381 thousand. The results are presented in Table 2.

⁵² Source: www.reginfo.gov/public/do/PRAViewICR?ref_nbr=201809-2120-009.

Table 2—Total FAA Cost Savings
Year | Initial flight instructor (forecast) | Flight instructor renewals (forecast) | Average wage per hour | Time to process each flight instructor (in hours) | Cost savings | Present value at: 2% | Present value at: 3% | Present value at: 7%
1 | 10,647 | 64,295 | $44.52 | 0.1 | $333,642 | $333,642 | $333,642 | $333,642
2 | 12,216 | 66,910 | 44.52 | 0.1 | 352,269 | 345,362 | 342,009 | 329,223
3 | 14,015 | 69,632 | 44.52 | 0.1 | 372,396 | 357,936 | 351,019 | 325,265
4 | 16,080 | 72,465 | 44.52 | 0.1 | 394,202 | 371,466 | 360,751 | 321,787
5 | 18,449 | 75,412 | 44.52 | 0.1 | 417,869 | 386,047 | 371,271 | 318,790
Total | 71,407 | 348,714 |  |  |  | 1,794,453 | 1,758,692 | 1,628,707
Notes: (i) initial certificates forecast based on historic rate of 14.73 percent per year; (ii) Flight instructor renewal forecast based on historic rate of 4.07 percent per year; and (iii) estimates may not total due to rounding.

2. Flight Instructor Refresher Course

Allowing flight instructors whose recent experience has lapsed by no more than three calendar months to reinstate flight instructor privileges by taking a FIRC will result in cost savings for flight instructors. Under the previous rule, flight instructor applicants typically would incur the costs of taking a practical test. This expenditure generally included the applicant's time for the test-which consisted of oral testing and a flight test (about 2-3 hours flight portion), the cost of a designated examiner to conduct the test,⁵³ and the aircraft operational or rental costs ⁵⁴ incurred while taking the test. The estimates provided here are based on a comprehensive review of (1) numerous flight schools throughout the United States, (2) the price designated pilot examiners charge across the country, and (3) the cost of taking FAA approved FIRCs conducted by current providers. This review was conducted by FAA personnel familiar with the training requirements and associated costs. The research conducted during this review indicates that a practical test to reinstate a flight instructor certificate could cost anywhere from about $800 to thousands of dollars when a rental aircraft is used for the practical test. Conversely, the cost of an online FIRC may be provided free of charge or cost as much as $299 for a live classroom FIRC. By averaging these options ($0 and $299), the FAA assumes a cost of $149.50 per hour for the cost of taking a FIRC.

⁵³ Based on the research conducted by the Airmen Certification and Training Branch of Flight Standards Service, this cost can range from about $500 to $1,000. The FAA estimates $750/hour (average of $500 and $1,000) for the cost of a designated pilot examiner to conduct the test.

⁵⁴ One of the most popular aircraft, the Cessna 172 airplane, (four seat/single four-cylinder engine) rents from about $120/hour to $220/hour wet (with fuel and oil), depending on its age and equipment. The FAA estimates $170/hour (average of $120 and $220) for the rental cost. Additional cost may include the flight instructor's fee (typically $30-$60 per hour). The FAA estimates $45/hour (average of $30 and $60) for the flight instructor's fee.

To estimate the cost savings associated with taking a FIRC instead of a practical test, the FAA forecasts that on average 85 flight instructors will reinstate their flight instructor certificate within the first three-month period from the expiration of their certificate.⁵⁵ The FAA determined the difference in cost between taking a practical test and taking a FIRC as $2,656.⁵⁶ Therefore, the FAA estimates that during the first five years, the cost savings will be approximately $1.1 million present value at a 2 percent discount rate, with annualized savings of $231 thousand. The results are presented in Table 3.

⁵⁵ Flight Instructors that reinstated their flight instructor certificate within the first three-month period from the expiration of their certificate: 2019 = 92, 2020 = 79, 2021 = 80, 2022 = 96, and 2023 = 70. Source: Federal Aviation Administration Airmen Certification Branch (AFB-720). Average of 92, 79, 80, 96, and 70 = 85. Received data on March 19, 2024. For the NPRM, the FAA only had data points from 2019 to 2021, which were used to calculate the average.

⁵⁶ Difference in cost between taking a practical test and taking a FIRC = $2,805 − $149.50 = $2,655.5 Average cost of taking a flight instructor reinstatement practical test: $2,805. Assumptions for the practical test: Airplane, not Helicopter; Airplane rental for training in preparation for the practical test = 6 hours × $170 = $1,020; Prep time for test with flight instructor = 6 hours × $45 = $270 prep time; Airplane rental to and from test = 2 × $170 = $340; Airplane rental for the flight test (2-3 hours = 2.5 hours flight test × $170 = $425; Designated examiner to conduct the test average = $750.

Note: This example reflects the most common practical reinstatement by practical test. However, each individual has different circumstances.

Average cost for taking a FIRC = $149.50 (average of $0 and $299).

Table 3—Total Flight Instructor Refresher Course Cost Savings
Year | Flight instructors that will reinstate their flight instructor certificate within first 3 month period from the expiration of their certificate (forecast) | Cost of practical test minus cost of FIRC | Cost savings | Present value at: 2% | Present value at: 3% | Present value at: 7%
1 | 85 | $2,656 | $226,822 | $226,822 | $226,822 | $226,822
2 | 85 | $2,656 | $226,822 | $222,375 | $220,216 | $211,984
3 | 85 | 2,656 | 226,822 | 218,015 | 213,802 | 198,115
4 | 85 | 2,656 | 226,822 | 213,740 | 207,575 | 185,155
5 | 85 | 2,656 | 226,822 | 209,549 | 201,529 | 173,042
Total | 427 |  |  | 1,090,501 | 1,069,944 | 995,118
Note: (i) estimates may not total due to rounding.

The FAA estimates that during the first five years, the combined cost savings (industry + FAA) will be approximately $5.6 million present value at a 2 percent discount rate, with an annualized savings of $1.2 million. The results are presented in Table 4.

Table 4—Total Cost Savings for the Industry and the FAA
Cost savings | Present value at: 2% | Present value at: 3% | Present value at: 7% | Annualized: 2%
Industry | $3,792,659 | $3,718,253 | $3,447,692 | $804,644
FAA | 1,794,453 | 1,758,692 | 1,628,707 | 380,708
Total | 5,587,111 | 5,476,944 | 5,076,398 | 1,185,353
Note: (i) estimates may not total due to rounding.

3. FAA-Sponsored Pilot Proficiency Programs

This new paragraph will add the FAA-sponsored pilot proficiency programs as a method to establish recent experience under § 61.197(a) and will codify the FAA's current practice of permitting flight instructors to use the WINGS Program to satisfy § 61.197. Codifying FAA-sponsored pilot proficiency programs to allow flight instructors an additional method to establish flight instructor recent experience is essentially an enabling provision for flight instructors, which was triggered by the need to provide a regulatory basis for a policy that has allowed flight instructors to renew their certificate by means of the WINGS program.

4. Revising Flight Instructor Qualifications Under 14 CFR 61.195(h)(2)

Currently, prior to instructing initial flight instructor applicants, a flight instructor must have held their flight instructor certificate for at least 24 calendar months and have given a requisite number of hours of flight training. This Final Rule will create two additional options for a flight instructor to qualify to instruct initial flight instructor applicants. Under the first new option, flight instructors would have the option to qualify by training and endorsing at least five applicants for a practical test for a pilot certificate or rating, with at least 80 percent of those applicants passing the test on their first attempt. As another option, flight instructors may complete an FAA-approved FIEQTP and give a requisite number of hours of flight training. These two new qualification options will allow flight instructors to be eligible to instruct initial flight instructor applicants sooner than 24 calendar months. This provision will provide additional flexibility to instructors and, thus, the FAA finds it will provide a small cost savings.⁵⁷

⁵⁷ Section 61.195(h)(2)(iii) currently requires a flight instructor seeking to instruct an initial flight instructor applicant to have held their flight instructor certificate for at least 24 months.

B. Regulatory Flexibility Act

The Regulatory Flexibility Act (RFA) of 1980, (5 U.S.C. 601-612), as amended by the Small Business Regulatory Enforcement Fairness Act of 1996 (Pub. L. 104-121) and the Small Business Jobs Act of 2010 (Pub. L. 111-240), requires Federal agencies to consider the effects of the regulatory action on small business and other small entities and to minimize any significant economic impact. The term “small entities” comprises small businesses and not-for-profit organizations that are independently owned and operated and are not dominant in their fields, and governmental jurisdictions with populations of less than 50,000.

Most of the parties affected by this rule will be small businesses such as flight instructors, aeronautical universities, FAA designated pilot examiners, parts 61 and 141 flight schools, and part 142 training centers. There were 131,577 ⁵⁸ flight instructors alone in 2023. Therefore, this final rule will affect a substantial number of small entities. However, it does not impose costs net of cost savings. This Final Rule is expected to provide cost savings to industry of about $4 million present value at 2 percent during the first 5 years. If an agency determines that a rulemaking will not result in a significant economic impact on a substantial number of small entities, the head of the agency may so certify under section 605(b) of the RFA. Therefore, as provided in section 605(b) and based on the foregoing, the head of FAA certifies that this rulemaking will not result in a significant economic impact on a substantial number of small entities.

⁵⁸ U.S. Civil Airmen Statistics | Federal Aviation Administration (faa.gov).

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that the rule will have only a domestic impact and, therefore, no effect on international trade.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal government having first provided the funds to pay those costs. The FAA determined that the final rule will not result in the expenditure of $183,000,000 or more by State, local, or Tribal governments, in the aggregate, or the private sector, in any one year.

E. Paperwork Reduction Act

The Paperwork Reduction Act of 1995 (44 U.S.C. 3507(d)) requires that the FAA consider the impact of paperwork and other information collection burdens imposed on the public. The FAA has determined that there will be a new requirement for information collection associated with this rule for the FIEQTP. The FAA notes that the Office of Management and Budget assigned OMB control number 2120-0816 to this information collection. As required by the Paperwork Reduction Act, the FAA has submitted this information collection request to OMB for its review. The new information collection would be entitled Flight Instructor Enhanced Qualification Training Program (FIEQTP): Preparation and Approval. The following discussion provides details on this information collection requirement.

Summary: Flight instructors seeking to provide flight training to initial flight instructor applicants may complete an approved Flight Instructor Enhanced Qualification Training Program (FIEQTP) that will develop the flight instructor's instructional ability. Participation in this new training program is not mandatory; instead, it is one option to become qualified to instruct initial flight instructor applicants. Any part 141 pilot school or part 142 training center wishing to offer the new training program is required to submit the curriculum to the FAA for approval.

Use: The information collected for the FIEQTP will ensure flight instructors seeking to provide flight training to initial flight instructor applicants are adequately trained in the knowledge and skills of the intricacies of providing flight training to initial flight instructor applicants. The requirement to submit the FIEQTP curriculum to the FAA for approval ensures that the FIEQTP meets the regulatory requirements of such program and provides greater oversight of the training programs to ensure consistency of both course and instructional quality among pilot schools and training centers.

Burden Estimate: As of May 2024, FAA records show 539 active part 141 pilot schools and 50 active part 142 training centers.⁵⁹ The FAA estimates that 25 percent of these pilot schools and training centers would take advantage of the provision in this rule that would trigger an estimated 147 responses to this new information collection for § 61.195(h)(3). Therefore, in the first year, the FAA estimates that about 134.75 pilot schools and 12.50 training centers would submit a training program for approval for a total of 147 respondents in the first year. Further, the FAA estimates that the development of each FIEQTP will take approximately 80 hours and that the task would be performed by the pilot school's or training center's chief flight instructor. The Bureau of Labor Statistics estimates that the mean annual salary for a chief flight instructor is $90,330, from which the FAA estimates an average wage of $43.43 per hour.⁶⁰ This wage was obtained using the North American Industry Classification System (NAICS) industry code 611500; occupation code 53-2010 designate for aircraft pilots and flight engineers. This wage estimate was derived by dividing $90,330 by 2,080 hours (assuming a 40-hour work week for 52 weeks), which is $43.43 per hour. Next, a fringe benefit multiplier 1.42 was included. This results in an annual salary of $128,128 and hourly wage of $61.60.⁶¹

⁵⁹ The FAA obtained a list of active part 141 pilot schools and a list of active part 142 training centers from its internal record system, WebOPSS, on March 18, 2024.

⁶⁰ The code was determined to be the appropriate code as the NAICS code for training and development specialists' states “flight instructors are included with “Aircraft Pilots and Flight Engineers” (53-2010)”. Source: Technical and Trade Schools—May 2022 OEWS Industry-Specific Occupational Employment and Wage Estimates (bls.gov).

⁶¹ Percent of total compensation = 29.5%. Source: Bureau of Labor Statistics News Release. Employer Costs for Employee Compensation—March 2022. Employer Costs for Employee Compensation Archived News Releases: U.S. Bureau of Labor Statistics (bls.gov).

Table 5—Industry Salary Including Overhead
Job category | Annual wage | Multiplier | Total | Hourly wage
Chief Flight Instructor | ¹ $90,330 | ² 1.42 | $128,128 | ³ $61.60
Sources:
¹ NAICS Code 611500; occupation code 53-2010. Technical and Trade Schools—May 2022 OEWS Industry-Specific Occupational Employment and Wage Estimates (bls.gov).
² Overhead benefit percent of total compensation = 29.5%. June 2022. https://www.bls.gov/bls/news-release/ecec.htm.
³ Using 2,080 working hours in one year.

This would result in a first-year burden of about 11,780 hours and about $725,648 ((134.75 pilot schools +12.50 training centers) × 80 hours × $61.60) for affected pilot schools and training centers to prepare and submit new training programs. For subsequent years, the FAA assumes a growth rate of one percent for both pilot schools and training centers. The FAA estimates that 25 percent of those institutions would submit FIEQTP to the FAA for revisions, resulting in approximately 1.47 new respondents and an additional burden of about 118 hours and $7,256 in subsequent years. The FAA also estimates that each year at least 50 percent of the pilot schools and training centers that provide the FIEQTP curriculum would require at least one revision to address any updates or deficiencies identified by the FAA, pilot school, or training center. As a result, the FAA estimates the total annual burden to pilot schools and training centers of submissions, including growth and revisions, at 4,749 hours and $292,553.

The FAA reviewed the number of initial flight instructors certificated in the previous three years, which was reported as: 2023 (11,337), 2022 (8,364), and 2021 (7,759) equaling a total of 27,460 newly certificated flight instructors.⁶² Using the most recent year of these newly certificated flight instructors, the FAA estimates 11,337 student records would be generated in the first year. The FAA further assumes that 25 percent of the students would enroll in a FIEQTP regardless of other alternatives. The FAA, therefore, estimates that 2,834 students ⁶³ would enroll in a FIEQTP in the first year. The FAA further estimates that the student population growth rate would be 0.6 percent.⁶⁴ In addition, the FAA estimates each record would require five minutes of processing time and that recordkeeping functions would be the responsibility of the chief flight instructor. This would result in an annual recordkeeping burden of 79 hours and $4,888.

⁶² The number of initial flight instructors are from U.S. Civil Airmen Statistics | Federal Aviation Administration (faa.gov); March 18, 2024.

⁶³ 11,337 × 25% = 2,834 students.

⁶⁴ Source: FAA Airman Certification Branch.

The annual industry burden and cost of this information requirement for plan submission and revision and student recordkeeping is about 4,829 hours and $297,441.

Table 6—Industry FIEQTP Development and Revision Burden and Costs
[Information used for estimates]
Category | Element | Estimate
Pilot Schools | Number of pilot schools | 539
| Portion of pilot schools affected | 25%
| Number of pilot schools affected | (539 × 0.25 =) 134.75
| Growth rate of pilot schools | 1%
Training Centers | Number of training centers | 50
| Portion of training centers affected | 25%
| Number of training centers affected | (50 × 0.25 =) 12.50
| Growth rate of training centers | 1%
FIEQTP | Time needed to develop and submit original | 80 hours
| Time for revisions | 10 hours
| Percent revisions per year | 50% ⁶⁵
Wage Rate | Chief flight instructor | $61.60

The FAA estimates the annual burden and cost to the Federal Government for the review and authorization of the FIEQTP would be 2,809 hours and $251,924. This burden and cost was determined by estimating the time required for FAA personnel to review FIEQTP curriculums and authorize an applicant's program through the issuance of an approval letter. The FAA estimates FAA aviation safety inspectors (ASIs) would spend 40 hours on each review and 10 hours on each revision. Additionally, FAA clerks would spend 30 minutes on issuance of an approval letter. The FAA estimates the salaries for the ASIs and clerks based on the 2024 General Schedule Locality Pay Tables using the Rest of the United States locality pay multiplier. The FAA uses 36.25 percent to calculate the overhead benefits multiplier. The total salary, including overhead, is $188,696 ($90.72 per hour) for ASIs and $92,597 ($44.52 per hour) for clerks. The analysis uses the same number of responses estimated for industry FIEQTP submission and revision to estimate the burden and cost to the FAA of reviews and approvals.

⁶⁵ Estimated as 50% of the total affected pilot schools and training centers per year adjusted for growth.

Table 7—FAA Salaries Including Overhead
Job category | Aviation safety inspector | Clerk
Grade and Step | GS-14 Step 5 | GS-9 Step 5.
Annual Base Salary | $118,552 ¹ | $58,176.¹
Locality Multiplier | 1.1682 ² | 1.1682.²
Salary Adjusted by Locality Pay | $138,492 | $67,961.
Overhead Benefit Multiplier | 1.3625 ³ | 1.3625.³
Salary including Overhead | $188,696 | $92,597.
Hourly Wage | $90.72 ⁴ | $44.52.⁴
Sources:
¹ 2024 General Schedule Pay. https://www.opm.gov/policy-data-oversight/pay-leave/salaries-wages/salary-tables/pdf/2024/GS.pdf.
² FAA locality rate for the Rest of the United States.
³ https://www.whitehouse.gov/wp-content/uploads/legacy_drupal_files/omb/memoranda/2008/m08-13.pdf.
⁴ Using 2,080 working hours in one year.

The combined (industry + FAA) annual burden and cost is 7,637 hours and $549,365. The following provides additional detail of response, burden, and cost estimates to industry and the FAA (some estimates may not exactly total due to rounding).

Table 8—Annual Burden and Costs for the Industry and the FAA
Category | Total responses | Hours per response | Burden hours: Reporting | Burden hours: Recordkeeping | Burden hours: Disclosure | Burden hours: Total | Burden hours: Cost
Industry: 61.195(h)(3):
Development Cost—Pilot Schools | 45.82 | 80 | 3,666 |  |  | 3,666 | $225,798
Development Cost—Training Centers | 4.25 | 80 | 340 |  |  | 340 | 20,946
Cost—Revisions | 74.36 | 10 | 744 |  |  | 744 | 45,808
Industry Recordkeeping Costs | 956.12 | 0.083 |  | 79 |  | 79 | 4,888
Total Industry Costs for 61.195(h)(3) |  |  | 4,749 | 79 | 0 | 4,829 | 297,441
FAA: 61.195(h)(3):
Review cost of FIEQTP curriculums | 50.07 | 40 | 2,003 |  |  | 2,003 | 181,692
Revision cost of FIEQTP curriculums | 74.36 | 10 | 744 |  |  | 744 | 67,462
Cost of issuing approval letter | 124.43 | 0.5 | 62 |  |  | 62 | 2,770
Total FAA Costs for 61.195(h)(3) |  |  | 2,809 | 0 | 0 | 2,809 | 251,924
Total Industry and FAA Costs for 61.195(h)(3) |  |  | 7,558 | 79 | 0 | 7,637 | 549,365
Details may not add to row or column totals due to rounding.

Finally, § 61.195(h)(3)(vii) will require part 141 pilot schools and part 142 training centers to issue a graduation certificate to each flight instructor who successfully completes the FIEQTP. While part 141 already requires pilot schools to issue a graduation certificate to each student who completes an approved course of training,⁶⁶ this will be a new requirement for part 142 training centers, and only required for training centers in the context of FIEQTPs. The FAA does not know how many part 141 pilot schools or how many part 142 training centers will choose to provide the FIEQTP course. Additionally, the FAA does not know how many flight instructors will seek to attend this course at a part 141 pilot school, which is already required to issue a graduation certificate; or how many flight instructors will seek to attend this course at a part 142 training center, which are not currently required to issue graduation certificates. Therefore, the FAA is unable to quantify the costs to provide a graduation certificate.

⁶⁶ See § 141.95.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these regulations.

G. Environmental Analysis

FAA Order 1050.1F identifies FAA actions that are categorically excluded from preparation of an environmental assessment or environmental impact statement under the National Environmental Policy Act (NEPA) in the absence of extraordinary circumstances. The FAA has determined this rulemaking action qualifies for the categorical exclusion identified in paragraph 5-6.6f for regulations and involves no extraordinary circumstances.

VII. Executive Order Determinations

A. Executive Order 13132, Federalism

The FAA has analyzed this final rule under the principles and criteria of Executive Order (E.O.) 13132, Federalism. The FAA has determined that this action will not have a substantial direct effect on the States, or the relationship between the Federal Government and the States, or on the distribution of power and responsibilities among the various levels of government, and, therefore, will not have federalism implications.

B. Executive Order 13175, Consultation and Coordination With Indian Tribal Governments

Consistent with Executive Order 13175, Consultation and Coordination with Indian Tribal Governments,⁶⁷ and FAA Order 1210.20, American Indian and Alaska Native Tribal Consultation Policy and Procedures,⁶⁸ the FAA ensures that Federally Recognized Tribes (Tribes) are given the opportunity to provide meaningful and timely input regarding proposed Federal actions that have the potential to have substantial direct effects on one or more Indian Tribes, on the relationship between the Federal government and Indian Tribes, or on the distribution of power and responsibilities between the Federal government and Indian Tribes; or to affect uniquely or significantly their respective Tribes. At this point, the FAA has not identified any unique or significant effects, environmental or otherwise, on Tribes resulting from this final rule.

⁶⁷ 65 FR 67249 (Nov. 6, 2000).

⁶⁸ FAA Order No. 1210.20 (Jan. 28, 2004), available at www.faa.gov/documentLibrary/media/1210.pdf.

C. Executive Order 13211, Regulations That Significantly Affect Energy Supply, Distribution, or Use

The FAA analyzed this final rule under E.O. 13211, Actions Concerning Regulations that Significantly Affect Energy Supply, Distribution, or Use (May 18, 2001). The FAA has determined that it will not be a “significant energy action” under the executive order and is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

VIII. Additional Information

A. Electronic Access and Filing

A copy of the NPRM, all comments received, this final rule, and all background material may be viewed online at www.regulations.gov using the docket number listed above. A copy of this final rule will be placed in the docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing this final rule, including economic analyses and technical reports, may be accessed in the electronic docket for this rulemaking.

B. Small Business Regulatory Enforcement Fairness Act

The Small Business Regulatory Enforcement Fairness Act (SBREFA) of 1996 requires the FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

List of Subjects

14 CFR Part 11

Administrative practice and procedure, Reporting and recordkeeping requirements.

14 CFR Part 61

Aircraft, Airmen, Aviation safety, Reporting and recordkeeping requirements, Teachers.

14 CFR Part 63

Aircraft, Airman, Aviation safety, Reporting and recordkeeping requirements.

14 CFR Part 65

Aircraft, Airmen, Aviation safety, Reporting and recordkeeping requirements.

14 CFR Part 141

Airmen, Educational facilities, Reporting and recordkeeping requirements, Schools.

In consideration of the foregoing, the Federal Aviation Administration amends chapter I of title 14, Code of Federal Regulations as follows:

PART 11-GENERAL RULEMAKING PROCEDURES

1. The authority citation for part 11 continues to read as follows:

Authority: 49 U.S.C. 106(f), 40101, 40103, 40105, 40109, 40113, 44110, 44502, 44701-44702, 44711, 46102, and 51 U.S.C. 50901-50923.

2. Amend § 11.201 in the table in paragraph (b) by revising the entry for part 61 to read as follows:

§ 11.201 Office of Management and Budget (OMB) control numbers assigned under the Paperwork Reduction Act.

* * * * *

(b) * * *

14 CFR part or section identified and described | Current OMB control number
* * * * * * *
Part 61 | 2120-0021, 2120-0034, 2120-0543, 2120-0571, 2120-0816
* * * * * * *

PART 61-CERTIFICATION: PILOTS, FLIGHT INSTRUCTORS, AND GROUND INSTRUCTORS

3. The authority citation for part 61 is revised to read as follows:

Authority: 49 U.S.C. 106(f), 40113, 44701-44703, 44707, 44709-44711, 44729, 44903, 45102-45103, 45301-45302; Sec. 2307, Pub. L. 114-190, 130 Stat. 615 (49 U.S.C. 44703 note); sec. 318, Pub. L. 115-254, 132 Stat. 3186 (49 U.S.C. 44703 note); and Sec. 820, Pub. L. 118-63, 138 Stat. 1330 (49 U.S.C. 44939 note).

Special Federal Aviation Regulation No. 100-2 [Removed]

4. Remove Special Federal Aviation Regulation No. 100-2 from part 61.

5. Amend § 61.2 by revising paragraphs (b)(1) and (2) to read as follows:

§ 61.2 Exercise of Privilege.

(b) * * *

(1) Exercise privileges of an airman certificate, rating, endorsement, or authorization issued under this part unless that person meets the appropriate airman recent experience and medical requirements of this part, specific to the operation or activity.

(2) Exercise privileges of a foreign pilot license within the United States to conduct an operation described in § 61.3(b), unless that person meets the appropriate airman recent experience and medical requirements of the country that issued the license, specific to the operation.

6. Amend § 61.19 by revising paragraphs (a)(2), (c)(1), (d) and (e) to read as follows:

§ 61.19 Duration of pilot and instructor certificates and privileges.

(a) * * *

(2) Except for a certificate issued with an expiration date, a certificate issued under this part is valid unless it is surrendered, suspended, or revoked.

(c) * * *

(1) A pilot certificate (including a student pilot certificate issued after April 1, 2016) issued under this part is issued without an expiration date.

(d) Flight instructor certificate. (1) A flight instructor certificate issued under this part on or after December 1, 2024, is issued without an expiration date.

(2) A flight instructor certificate issued before December 1, 2024, expires 24 calendar months from the month in which it was issued, renewed, or reinstated, as appropriate.

(e) Ground instructor certificate. A ground instructor certificate is issued without an expiration date.

* * * * *

7. Amend § 61.39 by:

a. Revising paragraphs (a) introductory text, (b) introductory text, (b)(3), (c) introductory text, and (c)(2);

b. Redesignating paragraphs (e) through (g) as paragraphs (f) through (h); and

c. Adding new paragraph (e).

The revisions and addition read as follows:

§ 61.39 Prerequisites for practical tests.

(a) Except as provided in paragraphs (b), (c), (e), and (f) of this section, to be eligible for a practical test for a certificate or rating issued under this part, an applicant must:

* * * * *

(b) Except as provided in paragraph (e) of this section, an applicant for an airline transport pilot certificate with an airplane category multiengine class rating or an airline transport pilot certificate obtained concurrently with a multiengine airplane type rating may take the practical test with an expired knowledge test only if the applicant passed the knowledge test after July 31, 2014, and is employed:

* * * * *

(3) By the U.S. Armed Forces as a flightcrew member in U.S. military air transport operations at the time of the practical test and has satisfactorily completed the pilot in command aircraft qualification training program that is appropriate to the pilot certificate and rating sought.

(c) Except as provided in paragraph (e) of this section, an applicant for an airline transport pilot certificate with a rating other than those ratings set forth in paragraph (b) of this section may take the practical test for that certificate or rating with an expired knowledge test report, provided that the applicant is employed:

* * * * *

(2) By the U.S. Armed Forces as a flightcrew member in U.S. military air transport operations at the time of the practical test and has satisfactorily completed the pilot in command aircraft qualification training program that is appropriate to the pilot certificate and rating sought.

* * * * *

(e) An applicant for an airman certificate or rating issued under this part 61 may take a practical test with an expired knowledge test if the applicant meets the requirements specified in § 61.40.

* * * * *

8. Add § 61.40 to read as follows:

§ 61.40 Relief for U.S. Military and civilian personnel who are assigned outside the United States in support of U.S. Armed Forces operations.

(a) Relief. A person who satisfies the requirements of paragraph (b) of this section may use the following documents to demonstrate eligibility to renew a flight instructor certificate, establish recent flight instructor experience, take a practical test, or renew an inspection authorization, as appropriate:

(1) For flight instructor certificates issued before December 1, 2024, an expired flight instructor certificate to show eligibility for renewal of a flight instructor certificate under § 61.197;

(2) Except as provided in paragraph (a)(3) of this section, for flight instructor certificates issued after December 1, 2024, a record demonstrating the last recent experience event accomplished under § 61.197 to show eligibility to reestablish recent experience under § 61.197;

(3) For persons who were issued a flight instructor certificate after December 1, 2024, and who served in a U.S. military or civilian capacity outside the United States in support of a U.S. Armed Forces operation for some period of time during the 24 calendar months following the issuance of the person's flight instructor certificate, a flight instructor certificate demonstrating the date of issuance to show eligibility to establish recent experience under § 61.197;

(4) An expired written test report to show eligibility under this part to take a practical test;

(5) An expired written test report to show eligibility to take a practical test required under part 63 of this chapter; and

(6) An expired written test report to show eligibility to take a practical test required under part 65 of this chapter or an expired inspection authorization to show eligibility for renewal under § 65.93.

(b) Eligibility. A person is eligible for the relief specified in paragraph (a) of this section if that person meets the following requirements:

(1) The person must have served in a U.S. military or civilian capacity outside the United States in support of a U.S. Armed Forces operation during some period of time beginning on or after September 11, 2001;

(2) One of the following occurred while the person served in an operation as set forth in paragraph (b)(1) of this section or within 6 calendar months after returning to the United States—

(i) The person's flight instructor certificate issued before December 1, 2024, airman written test report, or inspection authorization expired; or

(ii) For flight instructor certificates issued after December 1, 2024, the person has not met the flight instructor recent experience requirements within the preceding 24 calendar months in accordance with § 61.197; and

(3) The person complies with § 61.197 or § 65.93 of this chapter, as appropriate, or completes the appropriate practical test within 6 calendar months after returning to the United States.

(c) Required documents. To exercise the relief specified in paragraph (a) of this section, a person must complete and sign an application appropriate to the relief sought and send the application to the appropriate Flight Standards office. The person must include with the application one of the following documents, which must show the date of assignment outside the United States and the date of return to the United States:

(1) An official U.S. Government notification of personnel action, or equivalent document, showing the person was a civilian on official duty for the U.S. Government outside the United States and was assigned to a U.S. Armed Forces operation some time on or after September 11, 2001;

(2) Military orders validating the person was assigned to duty outside the United States and was assigned to a U.S. Armed Forces operation some time on or after September 11, 2001; or

(3) A letter from the person's military commander or civilian supervisor providing the dates during which the person served outside the United States and was assigned to a U.S. Armed Forces operation some time on or after September 11, 2001.

9. Amend § 61.51 by revising paragraph (h)(2)(ii) to read as follows:

§ 61.51 Pilot logbooks.

* * * * *

(h) * * *

(2) * * *

(ii) Include a description of the training given, the length of the training lesson, and the authorized instructor's signature, certificate number, and certificate expiration date or recent experience end date, consistent with the requirements of § 61.197.

* * * * *

10. Effective March 1, 2027, amend § 61.51 by revising paragraph (h)(2)(ii) to read as follows:

§ 61.51 Pilot logbooks.

* * * * *

(h) * * *

(2) * * *

(ii) Include a description of the training given, the length of the training lesson, and the authorized instructor's signature, certificate number, and recent experience end date.

* * * * *

11. Amend § 61.56 by revising paragraphs (d)(2), (e), and (f) to read as follows:

§ 61.56 Flight review.

* * * * *

(d) * * *

(2) A practical test conducted by an examiner for one of the following:

(i) The issuance of a flight instructor certificate,

(ii) An additional rating on a flight instructor certificate,

(iii) To meet the recent experience requirements for a flight instructor certificate in accordance with § 61.197(b)(1); or

(iv) The reinstatement of flight instructor privileges in accordance with § 61.199(b)(2).

(e) A person who has, within the period specified in paragraph (c) of this section, satisfactorily accomplished one or more phases of an FAA-sponsored pilot proficiency program need not accomplish the flight review required by this section.

(f) A person who holds a flight instructor certificate need not accomplish the one hour of ground training specified in paragraph (a) of this section if that person has, within the period specified in paragraph (c) of this section, met one of the following requirements—

(1) Satisfactorily completed the recent experience requirements for a flight instructor certificate under § 61.197; or

(2) Reinstated the person's flight instructor privileges by satisfactorily completing an approved flight instructor refresher course in accordance with § 61.199(a)(1).

* * * * *

12. Amend § 61.195 by revising paragraph (h) to read as follows:

§ 61.195 Flight instructor limitations and qualifications.

* * * * *

(h) Qualifications to provide ground or flight training to initial flight instructor applicants—(1) Ground training. The ground training provided to an initial applicant for a flight instructor certificate must be given by an authorized instructor who—

(i) Holds a ground or flight instructor certificate with the appropriate rating, has held that certificate for at least 24 calendar months, and has given at least 40 hours of ground training; or

(ii) Holds a ground or flight instructor certificate with the appropriate rating, and has given at least 100 hours of ground training in an FAA-approved course.

(2) Flight training. A flight instructor who provides flight training to an initial applicant for a flight instructor certificate must meet the eligibility requirements prescribed in § 61.183; hold the appropriate flight instructor certificate and rating; meet the requirements of the part under which the flight training is provided; and meet one of the following requirements—

(i) Have held a flight instructor certificate for at least 24 calendar months; and

(A) For training in preparation for an airplane, rotorcraft, or powered-lift rating, have given at least 200 hours of flight training as a flight instructor; or

(B) For training in preparation for a glider rating, have given at least 80 hours of flight training as a flight instructor;

(ii) Have trained and endorsed, during the preceding 24 calendar months, at least five applicants for a practical test for a pilot certificate or rating, and at least 80 percent of all applicants endorsed in that period passed that test on their first attempt; or

(iii) After completing the flight training requirements in paragraph (h)(2)(i)(A) or (B) of this section, as appropriate, have graduated from an FAA-approved flight instructor enhanced qualification training program that satisfies the requirements specified in paragraph (h)(3) of this section.

(3) Flight instructor enhanced qualification training program. A flight instructor enhanced qualification training program must be approved and conducted under part 141 or 142 of this chapter, and meet the following requirements-

(i) The ground training must include at least 25 hours of instruction that includes the following subjects:

(A) Flight instructor responsibilities, functions, lesson planning, and risk management, including how to instruct an initial flight instructor applicant on these subjects.

(B) Teaching methods, procedures, and techniques applicable to instructing an initial flight instructor applicant.

(C) Methods of proper evaluation of an initial flight instructor applicant to detect improper and insufficient transfer of instructional knowledge, training, and performance of the initial flight instructor applicant.

(D) Corrective action in the case of unsatisfactory training progress.

(ii) The flight training must include at least 10 hours of training that includes the following areas:

(A) Scenario-based training to develop the flight instructor's ability to instruct an initial flight instructor applicant how to satisfactorily perform the procedures and maneuvers while giving effective flight training.

(B) Instructional knowledge and proficiency to teach an initial flight instructor applicant in abnormal and emergency procedures, which must include stall awareness, spin entry, spins, and spin recovery procedures, if applicable to the category and class of aircraft used in the flight instructor enhanced qualification training program.

(C) Risk management and potential results of improper, untimely, or non-execution of safety measures critical to flight training.

(D) Methods of proper evaluation of an initial flight instructor applicant to detect improper and insufficient transfer of instructional knowledge, training, and performance of the initial flight instructor applicant.

(E) Corrective action in the case of unsatisfactory training progress.

(F) Methods to detect personal characteristics of an initial flight instructor applicant that could adversely affect safety.

(iii) Each flight instructor enrolled in the flight instructor enhanced qualification training program must satisfactorily complete an end-of-course written test specific to the ground training subjects in paragraph (h)(3)(i) of this section and an end-of-course instructional proficiency flight test specific to the flight training areas in paragraph (h)(3)(ii) of this section.

(iv) A full flight simulator or flight training device may be used to meet the flight training requirements of paragraph (h)(3)(ii) of this section. The FFS or FTD must be—

(A) Qualified and maintained in accordance with part 60 of this chapter, or a previously qualified device as permitted in accordance with § 60.17 of this chapter;

(B) Approved by the Administrator pursuant to § 61.4(a); and

(C) Used in accordance with the part under which the FAA-approved course is conducted.

(v) A maximum of 5 hours of training received in an advanced aviation training device may be used to meet the flight training requirements of paragraph (h)(3)(ii) of this section for part 141 flight instructor enhanced qualification training programs. The advanced aviation training device must be-

(A) Approved by the Administrator pursuant to § 61.4(c); and

(B) Used in accordance with part 141 of this chapter.

(vi) No certificate holder may use a person, nor may any person serve, as an instructor of the flight instructor enhanced qualification training program unless the instructor holds a flight instructor certificate or ground instructor certificate and meets one of the following qualifications:

(A) Serves as a chief instructor or assistant chief instructor in a part 141 pilot school;

(B) Serves as a training center program manager or assistant training center program manager of a part 142 training center; or

(C) Meets the qualifications of an assistant chief instructor, pursuant to § 141.36(d).

(vii) A part 141 pilot school or part 142 training center must issue a graduation certificate to each flight instructor who successfully completes the flight instructor enhanced qualification training program.

13. Revise § 61.197 to read as follows:

§ 61.197 Recent experience requirements for flight instructor certification.

(a) A person may exercise the privileges of the person's flight instructor certificate only if, within the preceding 24 calendar months, that person has satisfied one of the recent experience requirements specified in paragraph (b) of this section. The 24 calendar month period during which the flight instructor must establish recent experience shall start from one of the following—

(1) The month the FAA issued the flight instructor certificate;

(2) The month the recent experience requirements of paragraph (b) of this section are accomplished; or

(3) The last month of the flight instructor's current recent experience period provided the recent experience requirements of paragraph (b) of this section are accomplished within the 3 calendar months preceding the last month of the certificate holder's current recent experience period.

(b) A person who holds a flight instructor certificate may establish recent experience by satisfying one of the following requirements—

(1) Passing a practical test for—

(i) One of the ratings listed on the flight instructor certificate; or

(ii) An additional flight instructor rating; or

(2) Satisfactorily completing one of the following recent experience requirements, and submitting documentation of such in a form and manner acceptable to the Administrator—

(i) During the preceding 24 calendar months, the flight instructor has endorsed at least 5 applicants for a practical test for a certificate or rating and at least 80 percent of all applicants endorsed passed that test on the first attempt.

(ii) Within the preceding 24 calendar months, the flight instructor has served as a company check pilot, chief flight instructor, company check airman, or flight instructor in a part 121 or 135 operation, or in a position involving the regular evaluation of pilots.

(iii) Within the preceding 3 calendar months, the person has successfully completed an approved flight instructor refresher course consisting of ground training or flight training, or a combination of both.

(iv) Within the preceding 24 calendar months from the month of application, the flight instructor passed an official U.S. Armed Forces military instructor pilot or pilot examiner proficiency check in an aircraft for which the military instructor already holds a rating or in an aircraft for an additional rating.

(v) Within the preceding 24 calendar months from the month of application, the flight instructor has served as a flight instructor in an FAA-sponsored pilot proficiency program, provided the flight instructor meets the following requirements—

(A) Holds a flight instructor certificate and meets the appropriate flight instructor recent experience requirements of this part;

(B) Has satisfactorily completed at least one phase of an FAA-sponsored pilot proficiency program in the preceding 12 calendar months; and

(C) Has conducted at least 15 flight activities recognized under the FAA-sponsored pilot proficiency program, during which the flight instructor evaluated at least 5 different pilots and has made the necessary endorsements in the logbooks of each pilot for each activity.

(c) Except as provided in paragraph (f) of this section, a person who fails to establish recent experience in accordance with paragraph (b) of this section during the 24 calendar month period specified in paragraph (a) of this section may not exercise flight instructor privileges until those privileges are reinstated in accordance with § 61.199.

(d) The practical test required by paragraph (b)(1) of this section may be accomplished in a full flight simulator or flight training device if the test is accomplished pursuant to an approved course conducted by a training center certificated under part 142 of this chapter.

(e) A person who holds an unexpired flight instructor certificate issued before December 1, 2024, may renew that certificate by establishing recent experience in accordance with paragraph (b) of this section prior to the month of expiration on that person's flight instructor certificate. Except as provided in § 61.40, if that person fails to establish recent experience prior to the expiration of that person's flight instructor certificate, that person may not exercise flight instructor privileges until those privileges are reinstated in accordance with § 61.199.

(f) A person who qualifies for the relief prescribed in § 61.40 may establish recent experience in accordance with paragraph (b) of this section, provided the requirements of § 61.40 are met.

14. Amend § 61.199 by revising the section heading and paragraph (a), and removing paragraphs (c) and (d). The revisions read as follows:

§ 61.199 Reinstatement of flight instructor privileges.

(a) Flight instructor privileges. The holder of a flight instructor certificate who has not complied with the flight instructor recent experience requirements of § 61.197 may reinstate their flight instructor privileges by filing a completed and signed application with the FAA and satisfactorily completing one of the following reinstatement requirements:

(1) If 3 calendar months or less have passed since the last month of the flight instructor's recent experience period, the flight instructor may successfully complete an approved flight instructor refresher course consisting of ground training or flight training, or a combination of both, or satisfy one of the requirements specified in paragraph (a)(2) of this section.

(2) If more than 3 calendar months have passed since the last month of the flight instructor's recent experience period, the flight instructor must satisfactorily complete one of the following:

(i) A flight instructor certification practical test, as prescribed by § 61.183(h), for one of the ratings held on the flight instructor certificate; or

(ii) A flight instructor certification practical test for an additional rating.

(3) For military instructor pilots and pilot examiners, provide a record showing that, within the preceding 6 calendar months from the date of application for reinstatement, the person—

(i) Passed a U.S. Armed Forces instructor pilot or pilot examiner proficiency check; or

(ii) Completed a U.S. Armed Forces instructor pilot or pilot examiner training course and received an additional aircraft qualification as a military instructor pilot or pilot examiner that is appropriate to the flight instructor rating sought.

* * * * *

15. Revise § 61.215 by adding paragraph (e) to read as follows:

§ 61.215 Ground instructor privileges.

* * * * *

(e) Ground training provided to an initial applicant for a flight instructor certificate may only be provided by an authorized instructor in accordance with § 61.195(h)(1).

16. Revise § 61.425 to read as follows:

§ 61.425 How do I establish recent experience for my flight instructor certificate with a sport pilot rating?

(a) If you hold a flight instructor certificate with a sport pilot rating issued after December 1, 2024, you must establish recent experience in accordance with § 61.197.

(b) If you hold an unexpired flight instructor certificate with a sport pilot rating issued before December 1, 2024, you must renew your certificate by establishing recent experience in accordance with § 61.197 prior to the month of expiration on your flight instructor certificate. If you fail to establish recent experience prior to the expiration of your flight instructor certificate, you may not exercise flight instructor privileges until you reinstate those privileges in accordance with § 61.427.

17. Revise § 61.427 to read as follows:

§ 61.427 How do I reinstate my flight instructor privileges if I fail to establish recent experience for my flight instructor certificate with a sport pilot rating?

If you fail to establish recent experience for your flight instructor certificate with a sport pilot rating, you must reinstate your flight instructor privileges by satisfactorily completing one of the following reinstatement requirements:

(a) If 3 calendar months or less have passed since the last month of your recent experience period, you must successfully complete an approved flight instructor refresher course consisting of ground training or flight training, or a combination of both, or satisfy the requirements specified in paragraph (b) of this section.

(b) If more than 3 calendar months have passed since the last month of the flight instructor's recent experience period, you must pass a practical test as prescribed in § 61.405(b) or § 61.183(h) for one of the ratings listed on your flight instructor certificate with a sport pilot rating. The FAA will reinstate any privilege authorized by that flight instructor certificate with a sport pilot rating.

PART 63—CERTIFICATION: FLIGHT CREWMEMBERS OTHER THAN PILOTS

18. The authority citation for part 63 is revised to read as follows:

Authority: 49 U.S.C. 106(f), 40113, 44701-44703, 44707, 44709-44711, 45102-45103, 45301-45302.

19. Amend § 63.35 by revising paragraphs (c), (d)(1)(iii) and (d)(2), and adding paragraph (d)(3) to read as follows:

§ 63.35 Knowledge requirements.

* * * * *

(c) Before taking the written tests prescribed in paragraphs (a) and (b) of this section, an applicant for a flight engineer certificate must present satisfactory evidence of having completed one of the experience requirements of § 63.37. However, the applicant may take the written tests before acquiring the flight training required by § 63.37.

(d) * * *

(1) * * *

(iii) Meets the recurrent training requirements of the applicable part or, for mechanics, meets the recency of experience requirements of part 65 of this chapter;

(2) Within the period ending 24 calendar months after the month in which the applicant passed the written test, the applicant participated in a flight engineer or maintenance training program of a U.S. scheduled military air transportation service and is currently participating in that program; or

(3) An applicant is eligible to take a practical test for a flight engineer certificate or rating under this part with an expired written test report in accordance with § 61.40 of this chapter.

* * * * *

20. Amend § 63.53 by revising paragraph (b), and adding paragraph (c) to read as follows:

§ 63.53 Knowledge requirements.

* * * * *

(b) A report of the test is mailed to the applicant. Except as provided in paragraph (c) of this section, a passing grade is evidence, for a period of 24 calendar months after the test, that the applicant has complied with this section.

(c) An applicant is eligible to take a practical test for a flight navigator certificate under this part with an expired written test report in accordance with § 61.40 of this chapter.

PART 65—CERTIFICATION: AIRMEN OTHER THAN FLIGHT CREWMEMBERS

21. The authority citation for part 65 is revised to read as follows:

Authority: 49 U.S.C. 106(f), 40113, 44701-44703, 44707, 44709-44711, 45102-45103, 45301-45302.

22. Amend § 65.55 by revising paragraph (b), and adding paragraph (c) to read as follows:

§ 65.55 Knowledge requirements.

* * * * *

(b) Except as provided in paragraph (c) of this section, the applicant must present documentary evidence satisfactory to the Administrator of having passed an aircraft dispatcher knowledge test within the preceding 24 calendar months.

(c) An applicant is eligible to take a practical test for an aircraft dispatcher certificate under this part with an expired written test report in accordance with § 61.40 of this chapter.

23. Amend § 65.71 by revising paragraphs (a)(4) and (b) to read as follows:

§ 65.71 Eligibility requirements: General.

(a) * * *

(4) Comply with the sections of this subpart that apply to the rating the applicant seeks.

(b) A certificated mechanic who applies for an additional rating must meet the requirements of § 65.77 and, within a period of 24 calendar months, pass the tests prescribed by §§ 65.75 and 65.79 for the additional rating sought, except as provided in § 65.75(d).

24. Amend § 65.75 by adding paragraph (d) to read as follows:

§ 65.75 Knowledge requirements.

* * * * *

(d) An applicant is eligible to take a practical test for a mechanic certificate or rating under this part with an expired written test report in accordance with § 61.40 of this chapter.

25. Amend § 65.93 by revising paragraph (a) introductory text, and adding paragraph (d) to read as follows:

§ 65.93 Inspection authorization: Renewal.

(a) Except as provided in paragraph (d) of this section, to be eligible for renewal of an inspection authorization for a 2-year period an applicant must present evidence during the month of March of each odd-numbered year, at the responsible Flight Standards office, that the applicant still meets the requirements of § 65.91(c)(1) through (4). In addition, during the time the applicant held the inspection authorization, the applicant must show completion of one of the activities in paragraphs (a)(1) through (5) of this section by March 31 of the first year of the 2-year inspection authorization period, and completion of one of the five activities during the second year of the 2-year period:

* * * * *

(d) A person who qualifies for the relief prescribed in § 61.40 of this chapter is eligible to renew an expired inspection authorization under this section, provided the requirements of § 61.40 of this chapter are met.

PART 141—PILOT SCHOOLS

26. The authority citation for part 141 is revised to read as follows:

Authority: 49 U.S.C. 106(f), 40113, 44701-44703, 44707, 44709, 44711, 45102-45103, 45301-45302.

27. Amend § 141.11 by adding paragraph (b)(2)(ix) and paragraph (b)(4) to read as follows:

§ 141.11 Pilot school ratings.

* * * * *

(b) * * *

(2) * * *

(ix) Flight instructor enhanced qualification training program.

* * * * *

(4) Combined Private Pilot Certification and Instrument Rating Course. (Appendix M).

28. Amend appendix K to part 141 by:

a. Revising the paragraph heading of paragraph 4;

b. Revising paragraphs 4.(a) through (c); and

c. Adding paragraph 14.

The revisions and addition read as follows:

Appendix K to Part 141—Special Preparation Courses

* * * * *

4. Use of full flight simulators, flight training devices, or aviation training devices.

(a) The approved special preparation course may include training in a full flight simulator or flight training device, provided it is representative of the aircraft for which the course is approved, meets requirements of this paragraph, and the training is given by an authorized instructor. A flight instructor enhanced qualification training program may include training in an advanced aviation training device in accordance with paragraph 14 of this appendix and § 61.195(h)(3)(v) of this chapter.

(b) Except for the airline transport pilot certification program in paragraph 13 of this appendix and the flight instructor enhanced qualification training program in paragraph 14 of this appendix, training in a full flight simulator that meets the requirements of § 141.41(a) may be credited for a maximum of 10 percent of the total flight training hour requirements of the approved course, or of this section, whichever is less.

(c) Except for the airline transport pilot certification program in paragraph 13 of this appendix and the flight instructor enhanced qualification training program in paragraph 14 of this appendix, training in a flight training device that meets the requirements of § 141.41(a), may be credited for a maximum of 5 percent of the total flight training hour requirements of the approved course, or of this section, whichever is less.

* * * * *

14. Flight instructor enhanced qualification training program. An approved flight instructor enhanced qualification training program must include the ground and flight training specified in § 61.195(h)(3) of this chapter. The FAA will not approve a course with fewer hours than those prescribed in § 61.195(h)(3) of this chapter.

Issued under authority provided by 49 U.S.C. 106(f), 44701(a)(5), 44703(a), and Sec. 820 of Public Law 118-63, 138 Stat. 1330 (49 U.S.C. 44939 note) in Washington, DC.

Michael Gordon Whitaker,
Administrator.

[FR Doc. 2024-22018 Filed 9-30-24; 8:45 am]

BILLING CODE 4910-13-P